OFFICE OF PERSONNEL MANAGEMENT

Excepted Service; Consolidated Listing of Schedules; A, B, and C Exceptions

AGENCY: Office of Personnel Management.

ACTION: Notice.

SUMMARY: This gives a consolidated notice of all positions excepted under Schedules A, B, and C as of June 30, 2003, as required by Civil Service Rule VI, Exceptions from the Competitive Service.

SUPPLEMENTARY INFORMATION: Civil Service Rule VI (5 CFR 6.1) requires the Office of Personnel Management (OPM) to publish notice of all exceptions granted under Schedules A, B, and C. Title 5, Code of Federal Regulations, § 213.103(c), further requires that a consolidated listing, current as of June 30 of each year, be published annually as a notice in the Federal Register. That notice follows. OPM maintains continuing information on the status of all Schedule A, B, and C excepted appointing authorities. Interested parties needing information about specific authorities during the year may obtain information by writing to the Division for Human Resources Products and Services, Office of Personnel Management, 1900 E Street, NW., Room 2469, Washington, DC 20415, or by calling (202) 606-2575.

The following exceptions were current on June 30, 2003:

Schedule A

Section 213.3102 Entire Executive Civil Service

(a) Positions of Chaplain and Chaplain's Assistant.

(b) (Reserved).

(c) Positions to which appointments are made by the President without confirmation by the Senate.

(d) Attorneys.

(e) Law clerk trainee positions. Appointments under this paragraph shall be confined to graduates of recognized law schools or persons having equivalent experience and shall be for periods not to exceed 14 months pending admission to the bar. No person shall be given more than one appointment under this paragraph. However, an appointment that was initially made for less than 14 months may be extended for not to exceed 14 months in total duration.

(f) (Reserved).

(g) (Reserved).

(h) Positions in Federal mental institutions when filled by persons who have been patients of such institutions and have been discharged and are certified by an appropriate medical authority thereof as recovered sufficiently to be regularly employed but it is believed desirable and in the interest of the persons and the institution that they be employed at the institution.

(i) Temporary and less-than-full time positions for which examining is impracticable. These are:

(1) Positions in remote/isolated locations where examination is impracticable. A remote/isolated location is outside of the local commuting area of a population center from which an employee can reasonably be expected to travel on short notice under adverse weather and/or road conditions which are normal for the area. For this purpose, a population center is a town with housing, schools, health care, stores and other businesses in which the servicing examining office can schedule tests and/or reasonably expect to attract applicants. An individual appointed under this authority may not be employed in the same agency under a combination of this and any other appointment to positions involving related duties and requiring the same qualifications for more than 1,040 working hours in a service year. Temporary appointments under this authority may be extended in 1-year increments, with no limit on the number of such extensions, as an exception to the service limits in § 213.104.

(2) Positions for which a critical hiring needs exists. This includes both short-term positions and continuing positions that an agency must fill on an interim basis pending completion of competitive examining, clearances, or other procedures required for a longer appointment. Appointments under this authority may not exceed 30 days and may be extended up to an additional 30 days if continued employment is essential to the agency's operations. The appointments may not be used to extend the service limit of any other appointing authority. An agency may not employ the same individual under this authority for more than 60 days in any 12-month period.

(3) Other positions for which OPM determines that examining is impracticable.

(j) Positions filled by current or former Federal employees eligible for placement under special statutory provisions. Appointments under this authority are subject to the following conditions:

(1) Eligible employees. (i) Persons previously employed as National Guard Technicians under 32 U.S.C. 709(a) who are entitled to placement under § 353.110 of this chapter, or who are applying for or receiving an annuity under the provisions of 5 U.S.C. 8337(h) or 5 U.S.C. 8456 by reason of a disability that disqualifies them from membership in the National Guard or from holding the military grade required as a condition of their National Guard employment;

(ii) Executive branch employees (other than employees of intelligence agencies) who are entitled to placement under § 353.110 but who are not eligible for reinstatement or noncompetitive appointment under the provisions of part 315 of this chapter.

(iii) Legislative and judicial branch employees and employees of the intelligence agencies defined in 5 U.S.C. 2302(a)(2)(C)(ii) who are entitled to placement assistance under § 353.110.

(2) Employees excluded. Employees who were last employed in Schedule C or under a statutory authority that specified the employee served at the discretion, will, or pleasure of the agency are not eligible for appointment under this authority.

(3) Position to which appointed. Employees who are entitled to placement under § 353.110 will be appointed to a position that OPM determines is equivalent in pay and grade to the one the individual left, unless the individual elects to be placed in a position of lower grade or pay. National Guard Technicians whose eligibility is based upon a disability may be appointed at the same grade, or equivalent, as their National Guard Technician position or at any lower grade for which they are available.

(4) Conditions of appointment. (i) Individuals whose placement eligibility is based on an appointment without time limit will receive appointments without time limit under this authority. These appointees may be reassigned, promoted, or demoted to any position within the same agency for which they qualify.

(ii) Individuals who are eligible for placement under § 353.110 based on a time-limited appointment will be given appointments for a time period equal to the unexpired portion of their previous appointment.

(k) Positions without compensation provided appointments thereto meet the requirements of applicable laws relating to compensation.

(l) Positions requiring the temporary or intermittent employment of professional, scientific, and technical experts for consultation purposes.

(m) (Reserved).

(n) Any local physician, surgeon, or dentist employed under contract or on a part-time or fee basis.

(o) Positions of a scientific, professional or analytical nature when filled by bona fide members of the faculty of an accredited college or university who have special qualifications for the positions to which appointed. Employment under this provision shall not exceed 130 working days a year.

(p)-(q) (Reserved).

(r) Positions established in support of fellowship and similar programs that are filled from limited applicant pools and operate under specific criteria developed by the employing agency and/or a non-Federal organization. These programs may include: internship or fellowship programs that provide developmental or professional experiences to individuals who have completed their formal education; training and associate ship programs designed to increase the pool of qualified candidates in a particular occupational specialty; professional/industry exchange programs that provide for a cross-fertilization between the agency and the private sector to foster mutual understanding, an exchange of ideas, or to bring experienced practitioners to the agency; residency programs through which participants gain experience in a Federal clinical environment; and programs that require a period of Government service in exchange for educational, financial or other assistance. Appointment under this authority may not exceed 4 years.

(s) Positions with compensation fixed under 5 U.S.C. 5351-5356 when filled by student-employees assigned or attached to Government hospitals, clinics or medical or dental laboratories. Employment under this authority may not exceed 4 years.

(t) Positions when filled by mentally retarded persons who have been certified by state vocational rehabilitation agencies as likely to succeed. Upon completion of 2 years of satisfactory service under this authority, the employee may qualify for conversion to competitive status under the provisions of Executive Order 12125 and implementing instruction issued by the Office.

(u) Positions when filled by severely physically handicapped persons who: (1) under a temporary appointment have demonstrated their ability to perform the duties satisfactorily; or

(2) have been certified by counselors of State vocational rehabilitation agencies or the Veterans Administration as likely to succeed in the performance of the duties. Upon completion of 2 years of satisfactory service under this authority, the employee may qualify for conversion to competitive status under the provisions of Executive Order 12125 and implementing regulations issued by OPM.

(v)-(w) (Reserved).

(x) Positions for which a local recruiting shortage exists when filled by inmates of Federal, District of Columbia, and State (including the Commonwealth of Puerto Rico, the Virgin Islands, Guam, American Samoa, and the Trust Territory of the Pacific Islands) penal and correctional institutions under work-release programs authorized by the Prisoner Rehabilitation Act of 1965, the District of Columbia Work Release Act, or under work-release programs authorized by the States. Initial appointments under this authority may not exceed 1 year. An initial appointment may be extended for one or more periods not to exceed 1 additional year each upon a finding that the inmate is still in a work-release status and that a local recruiting shortage still exists. No person may serve under this authority longer than 1 year beyond the date of that person's release from custody.

(y) (Reserved).

(z) Not to exceed 30 positions of assistants to top-level Federal officials when filled by persons designated by the President as White House Fellows.

(aa) Scientific and professional research associate positions at GS-11 and above when filled on a temporary basis by persons having a doctoral degree in an appropriate field of study for research activities of mutual interest to appointees and their agencies. Appointments are limited to persons referred by the National Research Council under its post-doctoral research associate program, may not exceed 2 years, and are subject to satisfactory outcome of evaluation of the associate's research during the first year.

(bb) Positions when filled by aliens in the absence of qualified citizens. Appointments under this authority are subject to prior approval of OPM except when the authority is specifically included in a delegated examining agreement with OPM.

(cc)-(ee) (Reserved).

(ff) Not to exceed 25 positions when filled in accordance with an agreement between OPM and the Department of Justice by persons in programs administered by the Attorney General of the United States under Public Law 91-452 and related statutes. A person appointed under this authority may continue to be employed under it after he/she ceases to be in a qualifying program only as long as he/she remains in the same agency without a break in service.

(gg)-(hh) (Reserved).

(ii) Positions of Presidential Intern, GS-9 and 11, in the Presidential Management Intern Program. Initial appointments must be made at the GS-9 level. No one may serve under this authority for more than 2 years, unless extended with OPM approval for up to 1 additional year. Upon completion of 2 years of satisfactory service under this authority, the employee may qualify for conversion to competitive appointment under the provisions of Executive Order 12364, in accordance with requirements published in the Federal Personnel Manual.

(jj-kk) (Reserved).

(ll) Positions as needed of readers for blind employees, interpreters for deaf employees and personal assistants for handicapped employees, filled on a full-time, part-time, or intermittent basis.

Section 213.3103 Executive Office of the President

(a) Office of Administration. (1) Not to exceed 75 positions to provide administrative services and support to the White House office.

(b) Office of Management and Budget. (1) Not to exceed 15 positions at grades GS-5/15.

(c) Council on Environmental Quality. (1) Professional and technical positions in grades GS-9 through 15 on the staff of the Council.

(d)-(f) (Reserved).

(g) National Security Council. (1) All positions on the staff of the Council.

(h) Office of Science and Technology Policy. (1) Thirty positions of Senior Policy Analyst, GS-15; Policy Analyst, GS-11/14; and Policy Research Assistant, GS-9, for employment of anyone not to exceed 5 years on projects of a high priority nature.

(i) Office of National Drug Control Policy. (1) Not to exceed 15 positions, GS-15 and below, of senior policy analysts and other personnel with expertise in drug-related issues and/or technical knowledge to aid in anti-drug abuse efforts.

Section 213.3104 Department of State

(a) Office of the Secretary. (1) All positions, GS-15 and below, on the staff of the Family Liaison Office, Director General of the Foreign Service and the Director of Personnel, Office of the Under Secretary for Management.

(2) One position of Museum Curator (Arts), in the Office of the Under Secretary for Management, whose incumbent will serve as Director, Diplomatic Reception Rooms. No new appointments may be made after February 28, 1997.

(b) American Embassy, Paris, France. (1) Chief, Travel and Visitor Unit. No new appointments may be made under this authority after August 10, 1981.

(c)-(f) (Reserved).

(g) Bureau of Population, Refugees, and Migration. (1) Not to exceed 10 positions at grades GS-5 through 11 on the staff of the Bureau.

(h) Bureau of Administration. (1) One Presidential Travel Officer. No new appointments may be made under this authority after June 11, 1981.

(2) One position of the Director, Art in Embassies Program, GM-1001-15.

Section 213.3105 Department of the Treasury

(a) Office of the Secretary. (1) Not to exceed 20 positions at the equivalent of GS-13 through GS-17 to supplement permanent staff in the study of complex problems relating to international financial, economic, trade, and energy policies and programs of the Government, when filled by individuals with special qualifications for the particular study being undertaken. Employment under this authority may not exceed 4 years.

(2) Not to exceed 20 positions, which will supplement permanent staff involved in the study and analysis of complex problems in the area of domestic economic and financial policy. Employment under this authority may not exceed 4 years.

(3) Not to exceed 50 positions in the Office of the Under Secretary (Enforcement).

(b) U.S. Customs Service. (1) Positions in foreign countries designated as “interpreter-translator” and “special employees,” when filled by appointment of persons who are not citizens of the United States; and positions in foreign countries of messenger and janitor.

(2)-(5) (Reserved).

(6) Three hundred positions of Criminal Investigator for special assignments and 10 positions for oversight policy and direction of sensitive law enforcement activities.

(7)-(8) (Reserved).

(9) Not to exceed 25 positions of Customs Patrol Officers in the Papago Indian Agency in the State of Arizona when filled by the appointment of persons of one-fourth or more Indian blood.

(d) Office of Thrift Supervision. (1) All positions in the supervision policy and supervision operations functions of OTS. No new appointments may be made under this authority after December 31, 1993.

(e) Internal Revenue Service. (1) Twenty positions of investigator for special assignments.

(f) (Reserved).

(g) Bureau of Alcohol, Tobacco, and Firearms. (1) One hundred positions of criminal investigator for special assignments.

(2) One non-permanent Senior Level (SL) Criminal Investigator to serve as a senior advisor to the Assistant Director (Firearms, Explosives, and Arson).

Section 213.3106 Department of Defense

(a) Office of the Secretary. (1)-(5) (Reserved).

(6) One Executive Secretary, US-USSR Standing Consultative Commission and Staff Analyst (SALT), Office of the Assistant Secretary of Defense (International Security Affairs).

(b) Entire Department (including the Office of the Secretary of Defense and the Departments of the Army, Navy, and Air Force). (1) Professional positions in Military Dependent School Systems overseas.

(2) Positions in attache 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the Department of Defense when filled by dependents of military or civilian employees of the U.S. Government residing in the area. Employment under this authority may not extend longer than 2 months following the transfer from the area or separation of a dependent's sponsor: Provided, that (i) a school employee may be permitted to complete the school year; and (ii) an employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(d) General. (1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences. (1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University. (1) Not to exceed 16 positions of senior policy analyst, GS-15, at the Strategic Concepts Development Center. Initial appointments to these positions may not exceed 6 years, but may be extended thereafter in 1-, 2-, or 3-year increments, indefinitely.

(g) Defense Communications Agency. (1) Not to exceed 10 positions at grades GS-10/15 to staff and support the Crisis Management Center at the White House.

(h) Defense Acquisitions University. (1) The Provost and professors.

(i) George C. Marshall European Center for Security Studies, Garmisch, Germany.

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii. (1) The Director, Deputy Director, Dean of Academics, Director of College, deputy department chairs, and senior positions of professor, associate professor, and research fellow within the Asia Pacific Center. Appointments may be made not to exceed 3 years and may be extended for periods not to exceed 3 years.

Section 213.3107 Department of the Army

(a)-(c) (Reserved).

(d) U.S. Military Academy, West Point, New York. (1) Civilian professors, instructors, teachers (except teachers at the Children's School), Cadet Social Activities Coordinator, Chapel Organist and Choir-Master, Director of Intercollegiate Athletics, Associate Director of Intercollegiate Athletics, coaches, Facility Manager, Building Manager, three Physical Therapists (Athletic Trainers), Associate Director of Admissions for Plans and Programs, Deputy Director of Alumni Affairs; and librarian when filled by an officer of the Regular Army retired from active service, and the military secretary to the Superintendent when filled by a U.S. Military Academy graduate retired as a regular commissioned officer for disability.

(e)-(f) (Reserved).

(g) Defense Language Institute. (1) All positions (professors, instructors, lecturers) which require proficiency in a foreign language or a knowledge of foreign language teaching methods.

(h) Army War College, Carlisle Barracks, PA. (1) Positions of professor, instructor, or lecturer associated with courses of instruction of at least 10 months duration for employment not to exceed 5 years, which may be renewed in 1-, 2-, 3-, 4-, or 5-year increments indefinitely thereafter.

(i) (Reserved).

(j) U.S. Military Academy Preparatory School, Fort Monmouth, New Jersey. (1) Positions of Academic Director, Department Head, and Instructor.

(k) U.S. Army Command and General Staff College, Fort Leavenworth, Kansas. (1) Positions of professor, associate professor, assistant professor, and instructor associated with courses of instruction of at least 10 months duration, for employment not to exceed up to 5 years, which may be renewed in 1-, 2-, 3-, 4-, or 5-year increments indefinitely thereafter.

Section 213.3108 Department of the Navy

(a) General. (1)-(14) (Reserved).

(15) Marine positions assigned to a coastal or seagoing vessel operated by a naval activity for research or training purposes.

(16) All positions necessary for the administration and maintenance of the official residence of the Vice President.

(b) Naval Academy, Naval Postgraduate School, and Naval War College. (1) Professors, instructors, and teachers; the Director of Academic Planning, Naval Postgraduate School; and the Librarian, Organist-Choirmaster, Registrar, the Dean of Admissions, and social counselors at the Naval Academy.

(c) Chief of Naval Operations. (1) One position at grade GS-12 or above that will provide technical, managerial, or administrative support on highly classified functions to the Deputy Chief of Naval Operations (Plans, Policy, and Operations).

(d) Military Sealift Command. (1) All positions on vessels operated by the Military Sealift Command.

(e) Pacific Missile Range Facility, Barking Sands, Hawaii. (1) All positions. This authority applies only to positions that must be filled pending final decision on contracting of Facility operations. No new appointments may be made under this authority after July 29, 1988.

(f) (Reserved).

(g) Office of Naval Research. (1) Scientific and technical positions, GS-13/15, in the Office of Naval Research International Field Office which covers satellite offices within the Far East, Africa, Europe, Latin America, and the South Pacific. Positions are to be filled by personnel having specialized experience in scientific and/or technical disciplines of current interest to the Department of the Navy.

Section 213.3109 Department of the Air Force

(a) Office of the Secretary. (1) One Special Assistant in the Office of the Secretary of the Air Force. This position has advisory rather than operating duties except as operating or administrative responsibilities may be exercised in connection with the pilot studies.

(b) General. (1) Professional, technical, managerial and administrative positions supporting space activities, when approved by the Secretary of the Air Force.

(2) One hundred forty positions, serviced by Hill Air Force Base, Utah, engaged in interdepartmental activities in support of national defense projects involving scientific and technical evaluations.

(c) Not to exceed 20 professional positions, GS-11 through GS-15, in Detachments 6 and 51, SM-ALC, Norton and McClellan Air Force Bases, California, which will provide logistic support management to specialized research and development projects.

(d) U.S. Air Force Academy, Colorado. (1) (Reserved).

(2) Positions of Professor, Associate Professor, Assistant Professor, and Instructor, in the Dean of Faculty, Commandant of Cadets, Director of Athletics, and Preparatory School of the United States Air Force Academy.

(e) (Reserved).

(f) Air Force Office of Special Investigations. (1) Positions of Criminal Investigators/Intelligence Research Specialists, GS-5 through GS-15, in the Air Force Office of Special Investigations.

(g) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama. (1) Positions of Professor, Instructor, or Lecturer.

(i) Air Force Institute of Technology, Wright-Patterson Air Force Base, Ohio. (1) Civilian deans and professors.

(j) Air Force Logistics Command. (1) One Supervisory Logistics Management Specialist, GM-346-14, in Detachment 2, 2762 Logistics Management Squadron (Special), Greenville, Texas.

(k) One position of Supervisory Logistics Management Specialist, GS-346-15, in the 2762nd Logistics Squadron (Special), at Wright-Patterson Air Force Base, Ohio.

(l) One position of Commander, Air National Guard Readiness Center, Andrews Air Force Base, Maryland.

Section 213.3110 Department of Justice

(a) General. (1) Deputy U.S. Marshals employed on an hourly basis for intermittent service.

(2) Positions at GS-15 and below on the staff of an office of a special counsel.

(3)-(5) (Reserved).

(6) Positions of Program Manager and Assistant Program Manager supporting the International Criminal Investigative Training Assistance Program in foreign countries. Initial appointments under this authority may not exceed 2 years, but may be extended in one-year increments for the duration of the in-country program.

(b) Immigration and Naturalization Service. (1) (Reserved).

(2) Not to exceed 500 positions of interpreters and language specialists, GS-1040-5/9.

(3) Not to exceed 25 positions, GS-15 and below, with proficiency in speaking, reading, and writing the Russian language and serving in the Soviet Refugee Processing Program with permanent duty location in Moscow, Russia.

(c) Drug Enforcement Administration. (1) (Reserved).

(2) Four hundred positions of Intelligence Research Agent and/or Intelligence Operation Specialist in the GS-132 series, grades GS-9 through GS-15.

(3) Not to exceed 200 positions of Criminal Investigator (Special Agent). New appointments may be made under this authority only at grades GS-7/11.

(d) National Drug Intelligence Center. All positions.

Section 213.3111 Department of Homeland Security

(a) Up to 50 positions at the GS-5 through 15 grade levels at the Department of Homeland Security. No new appointments may be made under this authority after March 30, 2004.

Section 213.3112 Department of the Interior

(a) General. (1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved).

(c) Indian Arts and Crafts Board. (1) The Executive Director.

(d) (Reserved).

(e) Office of the Assistant Secretary, Territorial and International Affairs. (1) (Reserved).

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved).

(4) Special Assistants to the Governor of American Samoa who perform specialized administrative, professional, technical, and scientific duties as members of his or her immediate staff.

(f) National Park Service. (1) (Reserved).

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation. (1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs. (1) Positions of Territorial Management Interns, GS-5, when filled by persons selected by the Government of the Trust Territory of the Pacific Islands. No appointment may extend beyond 1 year.

Section 213.3113 Department of Agriculture

(a) General. (1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved).

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of § 213.3102 or positions within the Forest Service.

(6)-(7) (Reserved).

(b)-(c) (Reserved).

(d) Farm Service Agency. (1) (Reserved).

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development. (1) (Reserved).

(2) County committeemen to consider, recommend, and advise with respect to the Rural Development program.

(3)-(5) (Reserved).

(6) Professional and clerical positions in the Trust Territory of the Pacific Islands when occupied by indigenous residents of the Territory to provide financial assistance pursuant to current authorizing statutes.

(f) Agricultural Marketing Service. (1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, and processed fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators.

(4) All positions on the staffs of the Milk Market Administrators.

(g)-(k) (Reserved).

(l) Food Safety and Inspection Service. (1)-(2) (Reserved).

(3) Positions of meat and poultry inspectors (veterinarians at GS-11 and below and nonveterinarians at appropriate grades below GS-11) for employment on a temporary, intermittent, or seasonal basis, not to exceed 1,280 hours a year.

(m) Grain Inspection, Packers and Stockyards Administration. (1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation. (1) Executive Director.

Section 213.3114 Department of Commerce

(a) General. (1)-(2) (Reserved).

(3) Not to exceed 50 scientific and technical positions whose duties are performed primarily in the Antarctic. Incumbents of these positions may be stationed in the continental United States for periods of orientation, training, analysis of data, and report writing.

(b)-(c) (Reserved).

(d) Bureau of the Census. (1) Managers, supervisors, technicians, clerks, interviewers, and enumerators in the field service, for time-limited employment to conduct a census.

(2) Current Program Interviewers employed in the field service.

(e)-(h) (Reserved).

(i) Office of the Under Secretary for International Trade. (1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved).

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period of not to exceed 2 years and may, with prior approval of OPM, be extended for an additional period of 2 years.

(j) National Oceanic and Atmospheric Administration. (1)-(2) (Reserved).

(3) All civilian positions on vessels operated by the National Ocean Service.

(4) Temporary positions required in connection with the surveying operations of the field service of the National Ocean Service. Appointment to such positions shall not exceed 8 months in any 1 calendar year.

(k) (Reserved).

(l) National Telecommunication and Information Administration. (1) Seventeen professional positions in grades GS-13 through GS-15.

Section 213.3115 Department of Labor

(a) Office of the Secretary. (1) Chairman and five members, Employees' Compensation Appeals Board.

(2) Chairman and eight members, Benefits Review Board.

(b)-(c) (Reserved).

(d) Employment and Training Administration. (1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

Section 213.3116 Department of Health and Human Services

(a) General. (1) Intermittent positions, at GS-15 and below and WG-10 and below, on teams under the National Disaster Medical System including Disaster Medical Assistance Teams and specialty teams, to respond to disasters, emergencies, and incidents/events involving medical, mortuary and public health needs.

(b) Public Health Service. (1) (Reserved).

(2) Positions at Government sanatoria when filled by patients during treatment or convalescence.

(3) (Reserved).

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved).

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved).

(10) Health care positions of the National Health Service Corps for employment of any one individual not to exceed 4 years of service in health manpower shortage areas.

(11)-(14) (Reserved).

(15) Not to exceed 200 staff positions, GS-15 and below, in the Immigration Health Service, for an emergency staff to provide health related services to foreign entrants.

(c)-(e) (Reserved).

(f) The President's Council on Physical Fitness. (1) Four staff assistants.

Section 213.3117 Department of Education

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

Section 213.3124 Board of Governors, Federal Reserve System

(a) All positions.

Section 213.3127 Department of Veterans Affairs

(a) Construction Division. (1) Temporary construction workers paid from “purchase and hire” funds and appointed for not to exceed the duration of a construction project.

(b) Not to exceed 400 positions of rehabilitation counselors, GS-3 through GS-11, in Alcoholism Treatment Units and Drug Dependence Treatment Centers, when filled by former patients.

(c) Board of Veterans' Appeals. (1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Not to exceed 600 positions at grades GS-3 through GS-11, involved in the Department's Vietnam Era Veterans Readjustment Counseling Service.

Section 213.3128 Broadcasting Board of Governors

(a) International Broadcasting Bureau. (1) Not to exceed 200 positions at grades GS-15 and below in the Office of Cuba Broadcasting. Appointments may not be made under this authority to administrative, clerical, and technical support positions.

Section 213.3132 Small Business Administration

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office approval. Appointments under this authority may not be used to extend the 2-year service limit contained in paragraph (b) below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

Section 213.3133 Federal Deposit Insurance Corporation

(a)-(b) (Reserved).

(c) Temporary positions located at closed banks or savings and loan institutions that are concerned with liquidating the assets of the institutions, liquidating loans to the institutions, or paying the depositors of closed insured institutions. New appointments may be made under this authority only during the 60 days immediately following the institution's closing date. Such appointments may not exceed 1 year, but may be extended for not to exceed 1 additional year.

Section 213.3136 U.S. Soldiers' and Airmen's Home

(a) (Reserved).

(b) Positions when filled by member-residents of the Home.

Section 213.3146 Selective Service System

(a) State Directors.

Section 213.3148 National Aeronautics and Space Administration

(a) One hundred and fifty alien scientists having special qualifications in the fields of aeronautical and space research where such employment is deemed by the Administrator of the National Aeronautics and Space Administration to be necessary in the public interest.

Section 213.3155 Social Security Administration

(a) Six positions of Social Insurance Representative in the district offices of the Social Security Administration in the State of Arizona when filled by the appointment of persons of one-fourth or more Indian blood.

(b) Seven positions of Social Insurance Representative in the district offices of the Social Security Administration in the State of New Mexico when filled by the appointment of persons of one-fourth or more Indian blood.

(c) Two positions of Social Insurance Representative in the district offices of the Social Security Administration in the State of Alaska when filled by the appointments of persons of one-fourth or more Alaskan Native blood (Eskimos, Indians, or Aleuts).

Section 213.3162 The President's Crime Prevention Council

(a) Up to 7 positions established in the President's Crime Prevention Council office created by the Violent Crime Control and Law Enforcement Act of 1994. No new appointments may be made under this authority after March 31, 1998.

Section 213.3165 Chemical Safety and Hazard Investigation Board

(a) (Reserved).

(b) Seven positions of either Chemical Incident Investigators or Chemical Safety Recommendation Specialists, in the Office of Investigations and Safety Programs. No new appointments may be made under this authority after October 15, 2002, or until the seventh person (who was given an offer of employment on September 13, 2002, and is waiting a physical examination clearance) is appointed, whichever is later.

Section 213.3166 Court Services and Offender Supervision Agency of the District of Columbia

(a) All positions, except for the Director, established to create the Court Services and Offender Supervision Agency of the District of Columbia. No new appointments may be made under this authority after September 30, 2003.

Section 213.3174 Smithsonian Institution

(a) (Reserved). (b) All positions located in Panama which are part of or which support the Smithsonian Tropical Research Institute.

(c) Positions at GS-15 and below in the National Museum of the American Indian requiring knowledge of, and experience in, tribal customs and culture. Such positions comprise approximately 10 percent of the Museum's positions and, generally, do not include secretarial, clerical, administrative, or program support positions.

Section 213.3175 Woodrow Wilson International Center for Scholars

(a) One Asian Studies Program Administrator, one International Security Studies Program Administrator, one Latin American Program Administrator, one Russian Studies Program Administrator, one West European Program Administrator, one Environmental Change & Security Studies Program Administrator, one United States Studies Program Administrator, and two Social Science Program Administrators.

Section 213.3178 Community Development Financial Institutions Fund

(a) All positions in the Fund and positions created for the purpose of establishing the Fund's operations in accordance with the Community Development Banking and Financial Institutions Act of 1994, except for any positions required by the Act to be filled by competitive appointment. No new appointments may be made under this authority after September 23, 1998.

Section 213.3180 Utah Reclamation and Conservation Commission

(a) Executive Director.

Section 213.3182 National Foundation on the Arts and the Humanities

(a) National Endowment for the Arts. (1) Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

Section 213.3190 African Development Foundation

(a) One Enterprise Development Fund Manager. Appointment authority is limited to four years unless extended by the Office.

Section 213.3191 Office of Personnel Management

(a)-(c) (Reserved).

(d) Part-time and intermittent positions of test examiners at grades GS-8 and below.

Section 213.3194 Department of Transportation

(a) U.S. Coast Guard. (1) (Reserved).

(2) Lamplighters.

(3) Professors, Associate Professors, Assistant Professors, Instructors, one Principal Librarian, one Cadet Hostess, and one Psychologist (Counseling) at the Coast Guard Academy, New London, Connecticut.

(b)-(d) (Reserved).

(e) Maritime Administration. (1)-(2) (Reserved).

(3) All positions on Government-owned vessels or those bareboats chartered to the Government and operated by or for the Maritime Administration.

(4)-(5) (Reserved).

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

Section 213.3195 Federal Emergency Management Agency

(a) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

(b) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

(c) Not to exceed 350 professional and technical positions at grades GS-5 through GS-15, or equivalent, in Mobile Emergency Response Support Detachments (MERS).

Section 213.3199 Temporary Organizations

Positions on the staffs of temporary organizations, as defined in 5 U.S.C. 3161(a). Appointments may not exceed 3 years, but temporary organizations may extend the appointments for 2 additional years if the conditions for extension are related to the completion of the study or project.

Schedule B

Section 213.3202 Entire Executive Civil Service

(a) Student Educational Employment Program—Student Temporary Employment Program. (1) Students may be appointed to the Student Temporary Employment Program if they are pursuing any of the following educational programs:

(i) High School Diploma or General Equivalency Diploma (GED);

(ii) Vocational/Technical certificate;

(iii) Associate degree;

(iv) Baccalaureate degree;

(v) Graduate degree; or

(vi) Professional degree

* * * * *

[The remaining text of provisions pertaining to the Student Temporary Employment Program can be found in 5 CFR 213.3202(a).]

(b) Student Educational Employment Program—Student Career Experience Program. (1)(i) Students may be appointed to the Student Career Experience Program if they are pursuing any of the following educational programs:

(A) High school diploma or General Equivalency Diploma (GED);

(B) Vocational/Technical certificate;

(C) Associate degree;

(D) Baccalaureate degree;

(E) Graduate degree; or

(F) Professional degree.

(ii) Student participants in the Harry S. Truman Foundation Scholarship Program under the provision of Public Law 93-842 are eligible for appointments under the Student Career Experience Program.

[The remaining text of provisions pertaining to the Student Career Experience Program can be found in 5 CFR 213.3202(b).]

* * * * *

(c)-(i) (Reserved).

(j) Special executive development positions established in connection with Senior Executive Service candidate development programs which have been approved by OPM. A Federal agency may make new appointments under this authority for any period of employment not exceeding 3 years for one individual.

(k) Positions at grades GS-15 and below when filled by individuals who (1) are placed at a severe disadvantage in obtaining employment because of a psychiatric disability evidenced by hospitalization or outpatient treatment and have had a significant period of substantially disrupted employment because of the disability; and (2) are certified to a specific position by a State vocational rehabilitation counselor or a Veterans Administration counseling psychologist (or psychiatrist) who indicates that they meet the severe disadvantage criteria stated above, that they are capable of functioning in the positions to which they will be appointed, and that any residual disability is not job related. Employment of any individual under this authority may not exceed 2 years following each significant period of mental illness.

(l) (Reserved).

(m) Positions when filled under any of the following conditions: (1) Appointment at grades GS-15 and above, or equivalent, in the same or a different agency without a break in service from a career appointment in the Senior Executive Service (SES) of an individual who:

(i) Has completed the SES probationary period;

(ii) Has been removed from the SES because of less than fully successful executive performance or a reduction in force; and

(iii) Is entitled to be placed in another civil service position under 5 U.S.C. 3594(b).

(2) Appointment in a different agency without a break in service of an individual originally appointed under paragraph (m)(1).

(3) Reassignment, promotion, or demotion within the same agency of an individual appointed under this authority.

(n) Positions when filled by preference eligibles or veterans who have been separated from the armed forces under honorable conditions after 3 years or more of continuous active service and who, in accordance with 5 U.S.C. 3304(f) (Pub. L. 105-339), applied for these positions under merit promotion procedures when applications were being accepted by the agency from individuals outside its own workforce. These veterans may be promoted, demoted, or reassigned, as appropriate, to other positions within the agency but would remain employed under this excepted authority as long as there is no break in service. No new appointments may be made under this authority after November 30, 1999.

Section 213.3203 Executive Office of the President

(a) (Reserved).

(b) Office of the Special Representative for Trade Negotiations. (1) Seventeen positions of economist at grades GS-12 through GS-15.

Section 213.3204 Department of State

(a)-(c) (Reserved).

(d) Fourteen positions on the household staff of the President's Guest House (Blair and Blair-Lee Houses).

(e) (Reserved).

(f) Scientific, professional, and technical positions at grades GS-12 to GS-15 when filled by persons having special qualifications in foreign policy matters. Total employment under this authority may not exceed 4 years.

Section 213.3205 Department of the Treasury

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved).

(d) Positions concerned with the protection of the life and safety of the President and members of his immediate family, or other persons for whom similar protective services are prescribed by law, when filled in accordance with special appointment procedures approved by OPM. Service under this authority may not exceed (1) a total of 4 years; or (2) 120 days following completion of the service required for conversion under Executive Order 11203, whichever comes first.

(e) Positions, grades GS-5 through 12, of Treasury Enforcement Agent in the Bureau of Alcohol, Tobacco, and Firearms; and Treasury Enforcement Agent, Pilot, Marine Enforcement Officer, and Aviation Enforcement Officer in the U.S. Customs Service. Service under this authority may not exceed 3 years and 120 days.

Section 213.3206 Department of Defense

(a) Office of the Secretary. (1) (Reserved).

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved).

(5) Four Net Assessment Analysts.

(b) Interdepartmental activities. (1) Five positions to provide general administration, general art and information, photography, and/or visual information support to the White House Photographic Service.

(2) Eight positions, GS-15 or below, in the White House Military Office, providing support for airlift operations, special events, security, and/or administrative services to the Office of the President.

(c) National Defense University. (1) Sixty-one positions of Professor, GS-13/15, for employment of any one individual on an initial appointment not to exceed 3 years, which may be renewed in any increment from 1 to 6 years indefinitely thereafter.

(d) General. (1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General. (1) Positions of Criminal Investigator, GS-1811-5/15.

(f) Department of Defense Polygraph Institute, Fort McClellan, Alabama. (1) One Director, GM-15.

(g) Defense Security Assistance Agency. All faculty members with instructor and research duties at the Defense Institute of Security Assistance Management, Wright Patterson Air Force Base, Dayton, Ohio. Individual appointments under this authority will be for an initial 3-year period, which may be followed by an appointment of indefinite duration.

Section 213.3207 Department of the Army

(a) U.S. Army Command and General Staff College. (1) Seven positions of professors, instructors, and education specialists. Total employment of any individual under this authority may not exceed 4 years.

Section 213.3208 Department of the Navy

(a) Naval Underwater Systems Center, New London, Connecticut. (1) One position of Oceanographer, grade GS-14, to function as project director and manager for research in the weapons systems applications of ocean eddies.

(b) All civilian faculty positions of professors, instructors, and teachers on the staff of the Armed Forces Staff College, Norfolk, Virginia.

(c) One Director and four Research Psychologists at the professor or GS-15 level in the Defense Personnel Security Research and Education Center.

(d) All civilian professor positions at the Marine Corps Command and Staff College.

(e) One position of Staff Assistant, GS-301-15, whose incumbent will manage the Navy's Executive Dining facilities at the Pentagon.

(f) One position of Housing Management Specialist, GM-1173-14, involved with the Bachelor Quarters Management Study. No new appointments may be made under this authority after February 29, 1992.

Section 213.3209 Department of the Air Force

(a) Not to exceed four interdisciplinary positions for the Air Research Institute at the Air University, Maxwell Air Force Base, Alabama, for employment to complete studies proposed by candidates and acceptable to the Air Force. Initial appointments are made not to exceed 3 years, with an option to renew or extend the appointments in increments of 1, 2, or 3 years indefinitely thereafter.

(b)-(c) (Reserved).

(d) Positions of Instructor or professional academic staff at the Air University, associated with courses of instruction of varying durations, for employment not to exceed 3 years, which may be renewed for an indefinite period thereafter.

(e) One position of Director of Development and Alumni Programs, GS-301-13, with the U.S. Air Force Academy, Colorado.

Section 213.3210 Department of Justice

(a) Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved).

(c) Not to exceed 400 positions at grades GS-5 through 15 assigned to regional task forces established to conduct special investigations to combat drug trafficking and organized crime.

(d) (Reserved).

(e) Positions, other than secretarial, GS-6 through GS-15, requiring knowledge of the bankruptcy process, on the staff of the offices of United States Trustees or the Executive Office for U.S. Trustees.

Section 213.3213 Department of Agriculture

(a) Foreign Agricultural Service. (1) Positions of a project nature involved in international technical assistance activities. Service under this authority may not exceed 5 years on a single project for any individual unless delayed completion of a project justifies an extension up to but not exceeding 2 years.

(b) General. (1) Temporary positions of professional Research Scientists, GS-15 or below, in the Agricultural Research Service and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Personnel Officer, Agricultural Research Service, or the Personnel Officer, Forest Service.

(2) Not to exceed 55 Executive Director positions, GM-301-14/15, with the State Rural Development Councils in support of the Presidential Rural Development Initiative.

Section 213.3214 Department of Commerce

(a) Bureau of the Census. (1) (Reserved).

(2) Not to exceed 50 Community Services Specialist positions at the equivalent of GS-5 through GS-12.

(3) (Reserved).

(b)-(c) (Reserved).

(d) National Telecommunications and Information Administration. (1) Not to exceed 10 positions of Telecommunications Policy Analysts, grades GS-11 through 15. Employment under this authority may not exceed 2 years.

Section 213.3215 Department of Labor

(a) Chair and a maximum of four additional Members, Administrative Review Board.

(b) (Reserved).

(c) Bureau of International Labor Affairs. (1) Positions in the Office of Foreign Relations, which are paid by outside funding sources under contracts for specific international labor market technical assistance projects. Appointments under this authority may not be extended beyond the expiration date of the project.

Section 213.3217 Department of Education

(a) Seventy-five positions, not in excess of GS-13, of a professional or analytical nature when filled by persons, other than college faculty members or candidates working toward college degrees, who are participating in midcareer development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

Section 213.3227 Department of Veterans Affairs

(a) Not to exceed 800 principal investigatory, scientific, professional, and technical positions at grades GS-11 and above in the medical research program.

(b) Not to exceed 25 Criminal Investigator (Undercover) positions, GS-1811, in grades 5 through 12, conducting undercover investigations in the Veterans Health Administration supervised by the VA, Office of Inspector General. Initial appointments shall be greater than 1 year, but not to exceed 4 years and may be extended indefinitely in 1-year increments.

Section 213.3236 U.S. Soldiers' and Airmen's Home

(a) (Reserved).

(b) Director, Health Care Services; Director, Member Services; Director, Logistics; and Director, Plans and Programs.

Section 213.3240 National Archives and Records Administration

(a) Executive Director, National Historical Publications and Records Commission.

Section 213.3248 National Aeronautics and Space Administration

(a) Not to exceed 40 positions of Command Pilot, Pilot, and Mission Specialist candidates at grades GS-7 through 15 in the Space Shuttle Astronaut program. Employment under this authority may not exceed 3 years.

Section 213.3255 Social Security Administration

(a) Temporary and time-limited positions in the Ticket to Work and Work Incentives Advisory Panel. No employees may be appointed after November 17, 2007.

Section 213.3274 Smithsonian Institution

(a) (Reserved).

(b) Freer Gallery of Art. (1) Not to exceed four positions of Oriental Art Restoration Specialist at grades GS-9 through GS-15.

Section 213.3276 Appalachian Regional Commission

(a) Two Program Coordinators.

Section 213.3278 Armed Forces Retirement Home

(a) Naval Home, Gulfport, Mississippi. (1) One Resource Management Officer position and one Public Works Officer position, GS/GM-15 and below.

Section 213.3282 National Foundation on the Arts and the Humanities

(a) (Reserved).

(b) National Endowment for the Humanities. (1) Professional positions at grades GS-11 through GS-15 engaged in the review, evaluation, and administration of grants supporting scholarship, education, and public programs in the humanities, the duties of which require indepth knowledge of a discipline of the humanities.

Section 213.3291 Office of Personnel Management

(a) Not to exceed eight positions of Associate Director at the Executive Seminar Centers at grades GS-13 and GS-14. Appointments may be made for any period up to 3 years and may be extended without prior approval for any individual. Not more than half of the authorized faculty positions at any one Executive Seminar Center may be filled under this authority.

(b) Twelve positions of faculty members at grades GS-13 through 15, at the Federal Executive Institute. Initial appointments under this authority may be made for any period up to 3 years and may be extended in 1-, 2-, or 3-year increments indefinitely thereafter.

Schedule C

Section 213.3303 Executive Office of the President

Council of Economic Advisers

CEGS60001 Confidential Assistant to the Chairman, Council of Economic Advisers

CEGS60004 Confidential Assistant to the Chairman, Council of Economic Advisers

CEGS60005 Administrative Operations Assistant to the Member (Council of Economic Advisers)

Council on Environmental Quality

EQGS00011 Associate Director for Global Environmental Affairs to the Chairman (Council on Environmental Quality)

EQGS60010 Associate Director for Communications to the Chairman (Council on Environmental Quality)

EQGS60012 Research Assistant to the Chairman (Council on Environmental Quality)

EQGS60017 Special Assistant to the Chairman (Council on Environmental Quality)

Office of Management and Budget

BOGS00022 Confidential Assistant to the Executive Associate Director

BOGS00038 Legislative Analyst to the Associate Director for Legislative Affairs

BOGS60004 Associate Administrator to the Administrator, Office of Information and Regulatory Affairs

BOGS60015 Public Affairs Officer to the Associate Director for Communications

BOGS60020 Special Assistant to the Associate Director for E-Government and Information Technology

BOGS60021 Counselor to the Deputy Director for Management to the Deputy Director for Management

BOGS60026 Confidential Assistant to the Assistant Director for Administration

BOGS60028 Legislative Assistant to the Associate Director for Legislative Affairs

BOGS60030 Confidential Assistant to the Associate Director for E-Government and Information Technology

BOGS60032 Public Affairs Specialist to the Associate Director for Communications

BOGS60035 Confidential Assistant to the Controller, Office of Federal Financial Management

BOGS60037 Associate General Counsel to the General Counsel

BOGS60141 Deputy to the Associate Director for Legislative Affairs (Senate) to the Associate Director for Legislative Affairs

BOGS60143 Deputy to the Associate Director for Legislative Affairs (House) to the Associate Director for Legislative Affairs

BOGS60146 Special Assistant to the Chief Transportation Branch

BOGS60148 Confidential Assistant to the Associate Director for National Security and International Affairs

BOGS60149 Confidential Assistant to the Associate Director for Legislative Affairs

Office of National Drug Control Policy

QQGS00010 Special Assistant to the Director

QQGS00011 Writer-Editor (Speech-Writer) to the Director, Public Affairs

QQGS00013 Project Coordinator to the Chief of Staff

QQGS00014 Confidential Counsel to the Deputy Director, Demand Reduction to the Deputy Director for Demand Reduction

QQGS00015 Associate Deputy Director, State and Local Affairs to the Deputy Director for State and Local Affairs

QQGS00082 Legislative Analyst to the Associate Director, Legislative Affairs

QQGS60002 Legislative Analyst (White House Liaison) to the Associate Director, Legislative Affairs

QQGS60003 Deputy Press Secretary to the Director

QQGS60005 Press Secretary (Assistant Director) to the Director

QQGS60006 Special Assistant to the Director

QQGS60007 Special Assistant to the Director

Office of the United States Trade Representative

TNGS00055 Deputy Assistant United States Trade Representative for Congressional Affairs to the Assistant United States Trade Representatives for Congressional Affairs

TNGS00070 Deputy Assistant United States Trade Representative for Congressional Affairs to the Assistant United States Trade Representatives for Congressional Affairs

TNGS60011 Confidential Assistant to the Chief of Staff

TNGS60013 Confidential Assistant to the Chief Agriculture Negotiator

TNGS60019 Special Textile Negotiator to the United States Trade Representative

TNGS60046 Public Affairs Specialist to the Associate United States Trade Representative for Policy and Communications

Office of Science and Technology Policy

TSGS60005 Executive Assistant for Policy and Intergovernmental Affairs to the Associate Director, Science

TSGS60017 Executive Director, President's Council of Advisors on Science and Technology and Counsel to the Associate Director, Science

TSGS60021 Confidential Assistant to the Chief of Staff

TSGS60022 Confidential Assistant (Director's Office) to the Deputy to the Associate Director Science

TSGS60028 Assistant to the Director for Communications to the Deputy to the Associate Director, Science

Section 213.3304 Department of State

BWGS60001 Confidential Assistant to the Assistant Secretary Oceans, International Environment and Science Affairs

DSGS00142 Program Support Assistant to the Chief of Protocol

DSGS00425 Foreign Affairs Officer to the Assistant Secretary Bureau of Politico-Military Affairs

DSGS60009 Special Assistant to the Secretary of State

DSGS60043 Foreign Affairs Research Analyst to the Assistant Secretary for International and Research

DSGS60098 Program Officer (Director of Press Center) to the Principal Deputy Assistant Secretary

DSGS60105 Special Assistant to the Under Secretary for Arms Control and Security Affairs

DSGS60106 Special Assistant to the Under Secretary for Arms Control and Security Affairs

DSGS60107 Member, Policy Planning Staff to the Director, Policy Planning Staff

DSGS60110 Special Assistant to the Principal Deputy Assistant Secretary

DSGS60111 Public Affairs Specialist to the Principal Deputy Assistant Secretary

DSGS60112 Staff Assistant to the Director, Policy Planning Staff

DSGS60118 Special Assistant to the Deputy Secretary

DSGS60119 Special Advisor to the Assistant Secretary for East Asian and Pacific Affairs

DSGS60123 Special Assistant to the Office Director

DSGS60126 Staff Assistant to the Deputy Secretary

DSGS60128 Protocol Officer to the Chief of Protocol

DSGS60131 Special Assistant to the Legal Adviser

DSGS60132 Legislative Management Officer to the Assistant Secretary for Legislative and Intergovernmental Affairs

DSGS60133 Public Affairs Specialist to the Principal Deputy Assistant Secretary

DSGS60146 Public Affairs Specialist to the Principal Deputy Assistant Secretary

DSGS60152 Supervisory Foreign Affairs Officer to the Under Secretary for Global Affairs

DSGS60153 Staff Assistant to the Secretary of State

DSGS60154 Assistant Chief of Protocol for Ceremonials to the Chief of Protocol

DSGS60156 Confidential Assistant to the Secretary of State

DSGS60159 Staff Assistant to the Assistant Secretary Oceans, International Environment and Science Affairs

DSGS60160 Staff Assistant to the Assistant Secretary for Democracy Human Rights and Labor

DSGS60161 Staff Assistant to the Ambassador-At-Large (War Crimes)

DSGS60162 Staff Assistant to the Assistant Secretary

DSGS60166 Attorney Advisor to the Deputy Assistant Secretary for Equal Employ Opportunity

DSGS60177 Special Assistant to the Under Secretary for Arms Control and Security Affairs

DSGS60182 Special Assistant to the Assistant Secretary for African Affairs

DSGS60184 Special Assistant to the Deputy Secretary

DSGS60191 Senior Policy Advisor to the Assistant Secretary for Legislative and Intergovernmental Affairs

DSGS60192 Staff Assistant to the Under Secretary for Arms Control and Security Affairs

DSGS60194 Senior Advisor to the Under Secretary for Arms Control and Security Affairs

DSGS60195 Special Assistant to the Assistant Secretary

DSGS60201 Staff Assistant to the Under Secretary for Global Affairs

DSGS60216 Senior Advisor to the Assistant Secretary for Western Hemispheric Affairs

DSGS60224 Senior Advisor to the Assistant Secretary for South Asian Affairs

DSGS60248 Senior Advisor to the Coordinator for International Information Programs

DSGS60249 Staff Assistant to the Deputy Secretary

DSGS60264 Public Affairs Specialist to the Principal Deputy Assistant Secretary

DSGS60267 Foreign Affairs Officer to the Principal Deputy Assistant Secretary

DSGS60292 Special Assistant to the Chief Financial Officer

DSGS60315 Senior Advisor to the Assistant Secretary for Democracy Human Rights and Labor

DSGS60317 Senior Policy Advisor to the Assistant Secretary for Legislative and Intergovernmental Affairs

DSGS60319 Legislative Management Officer to the Assistant Secretary for Legislative and Intergovernmental Affairs

DSGS60327 Staff Assistant to the Under Secretary for Arms Control and Security Affairs

DSGS60345 Public Affairs Specialist to the Principal Deputy Assistant Secretary

DSGS60355 Legislative Management Officer to the Assistant Secretary for Legislative and Intergovernmental Affairs

DSGS60357 Protocol Officer (Visits) to the Deputy Chief of Protocol

DSGS60360 Senior Advisor to the Deputy Assistant Secy for Public Affairs

DSGS60367 Special Advisor to the Under Secretary for Arms Control and Security Affairs

DSGS60370 Program Officer to the Principal Deputy Assistant Secretary

DSGS60371 Staff Assistant to the Under Secretary for Management

DSGS60375 Correspondence Specialist to the Assistant Secretary for Legislative and Intergovernmental Affairs

DSGS60380 Public Affairs Specialist to the Principal Deputy Assistant Secretary

DSGS60381 Supervisory Protocol Officer (Visits) to the Deputy Chief of Protocol

DSGS60388 Special Assistant to the Deputy Assistant Secretary

DSGS60389 Senior Advisor to the Assistant Secretary

DSGS60390 Special Assistant to the Chief Financial Officer

DSGS60393 Special Assistant to the Deputy Assistant Secretary

DSGS60394 Legislative Management Officer to the Assistant Secretary for Legislative and Intergovernmental Affairs

DSGS60395 Director, Art in Embassies Program to the Deputy Assistant Secretary

DSGS60396 Program Officer to the Assistant Secretary

DSGS60399 Confidential Assistant to the Secretary of State

DSGS60409 Public Affairs Specialist to the Assistant Secretary for Western Hemispheric Affairs

DSGS60410 Senior Advisor to the Assistant Secretary for Western Hemispheric Affairs

DSGS60419 Staff Assistant to the Chief Financial Officer

DSGS60420 Special Assistant to the Assistant Secretary

DSGS60421 Member, Policy Planning Staff to the Director, Policy Planning Staff

DSGS60429 Special Assistant to the Under Secretary for Arms Control and Security Affairs

DSGS60430 Legislative Management Officer to the Assistant Secretary for Legislative and Intergovernmental Affairs

DSGS60434 Special Assistant to the Senior Advisor to the Secretary and White House Liaison

DSGS60437 Legislative Management Officer to the Assistant Secretary for Legislative and Intergovernmental Affairs

DSGS60441 Special Assistant to the Principal Deputy Coordinator

DSGS60445 Special Advisor to the Assistant Secretary for Democracy Human Rights and Labor

DSGS60447 Foreign Affairs Officer to the Assistant Secretary for Western Hemispheric Affairs

DSGS60450 Special Assistant to the Under Secretary for Public Diplomacy and Public Affairs

DSGS60454 Member, Policy Planning Staff to the Director, Policy Planning Staff

DSGS60455 Special Assistant to the Deputy Secretary

DSGS60456 Staff Assistant to the Assistant Secretary for East Asian and Pacific Affairs

DSGS60466 Foreign Affairs Officer to the Assistant Secretary for Western Hemispheric Affairs

DSGS60474 Public Affairs Specialist to the Assistant Secretary for International Organizational Affairs

DSGS60477 Special Assistant to the Assistant Secretary for African Affairs

DSGS60479 Senior Technical Advisor to the Office Director

DSGS60481 Administrative Officer to the Under Secretary for Management

DSGS60486 Foreign Affairs Officer to the Assistant Secretary for Democracy Human Rights and Labor

DSGS60490 Staff Assistant to the Senior Advisor to the Secretary and White House Liaison

DSGS60493 Special Assistant to the Assistant Secretary for African Affairs

DSGS60498 Legislative Management Officer to the Assistant Secretary for Legislative and Intergovernmental Affairs

DSGS60499 Senior Advisor to the Assistant Secretary

DSGS60500 Foreign Affairs Officer to the Assistant Secretary for European and Canadian Affairs

DSGS60503 Special Assistant to the Assistant Secretary for East Asian and Pacific Affairs

DSGS60505 Resource, Plans and Policy Advisor to the Chief Financial Officer

DSGS60510 Special Assistant to the Chief Financial Officer

DSGS60514 Foreign Affairs Officer to the Assistant Secretary for International and Research

DSGS60519 Public Affairs Specialist to the Principal Deputy Assistant Secretary

DSGS60520 Director, Office of Public Liaison to the Assistant Secretary for Public Affairs

DSGS60526 Special Assistant to the Assistant Secretary for African Affairs

DSGS60528 Special Assistant to the Chief of Protocol

DSGS60542 Public Affairs Specialist to the Assistant Secretary for Public Affairs

DSGS60556 Special Advisor to the Assistant Secretary for International Organizational Affairs

DSGS60567 Senior Advisor to the Assistant Secretary for Near Eastern and South Asian Affairs

DSGS60587 Special Assistant to the Assistant Secretary Bureau of Politico-Military Affairs

DSGS60589 Special Adviser to the Assistant Secretary for International Organizational Affairs

DSGS60591 Public Affairs Specialist (Press Officer) to the Principal Deputy Assistant Secretary

Section 213.3305 Department of the Treasury

DYGS00321 Financial Analyst to the Director, Office of Specialized Development Institutions

DYGS00328 Deputy Assistant Secretary (Policy Coordination) to the Assistant Secretary (Economic Policy)

DYGS00356 Director, Critical Infrastructure Policy and Compliance Policy to the Deputy Assistant Secretary (Critical Infrastructure Protection and Compliance Policy)

DYGS00375 Director of Legislative and Governmental Affairs to the Director of the Mint

DYGS00377 Special Assistant to the Chief of Staff

DYGS00400 Special Assistant to the Assistant Secretary (Management) and Chief Financial Officer

DYGS00416 Special Assistant to the Deputy Assistant Secretary for Management and Budget

DYGS00423 Special Assistant to the Director of Strategic Planning, Scheduling and Advance

DYGS00424 Senior Advisor to the Assistant Secretary (Economic Policy)

DYGS00425 Special Assistant to the Assistant Secretary (Deputy Under Secretary) International Affairs

DYGS00429 Executive Assistant to the Secretary

DYGS00430 Senior Advisor to the Under Secretary for Domestic Finance

DYGS00431 Senior Advisor to the Deputy Assistant Secretary for Management and Budget

DYGS00432 Special Assistant to the Deputy Assistant Secretary and Chief Human Capital Officer

DYGS60139 Director of Strategic Planning, Scheduling and Advance to the Chief of Staff

DYGS60230 Public Affairs Specialist to the Director, Public Affairs

DYGS60250 Director, Public Affairs to the Deputy Assistant Secretary (Public Affairs)

DYGS60277 Speechwriter to the Assistant Secretary (Public Affairs and Public Liaison)

DYGS60307 Special Assistant to the Treasurer of the United States

DYGS60317 Public Affairs Specialist to the Director, Public Affairs

DYGS60318 Deputy to the Assistant Secretary to the Assistant Secretary (Deputy Under Secretary) Legislative Affairs

DYGS60351 Public Affairs Specialist to the Director, Public Affairs

DYGS60359 Senior Advisor for Latin American and Caribbean Nations to the Assistant Secretary (Deputy Under Secretary) International Affairs

DYGS60362 Special Assistant to the Assistant Secretary (Financial Institutions)

DYGS60364 Deputy Assistant Secretary to the Assistant Secretary (Financial Institutions)

DYGS60381 Special Assistant to the Assistant Secretary (Deputy Under Secretary) Legislative Affairs

DYGS60395 Deputy Executive Secretary for Policy Coordination to the Executive Secretary

DYGS60396 Senior Advisor to the Deputy Assistant Secretary (Public Liaison) to the Deputy Assistant Secretary (Public Liaison)

DYGS60401 Special Assistant for Advance to the Director of Strategic Planning, Scheduling and Advance

DYGS60404 Senior Advisor to the Assistant Secretary (Financial Institutions)

DYGS60405 Special Assistant to the Assistant Secretary (Deputy Under Secretary) Legislative Affairs

DYGS60411 Special Assistant to the Assistant Secretary (Public Affairs and Public Liaison)

DYGS60412 Special Assistant for Advance to the Director of Strategic Planning, Scheduling and Advance

DYGS60417 Senior Advisor to the Principal Deputy Assistant Secretary (Government Financial Policy)

DYGS60418 Special Assistant to the Deputy Chief of Staff

DYGS60421 Special Assistant to the Assistant Secretary (Deputy Under Secretary) Legislative Affairs

DYGS61059 Tax Legislative Advisor to the Assistant Secretary (Tax Policy)

Section 213.3306 Office of the Secretary of Defense

DDGS00463 Special Assistant to the Principal Deputy Under Secretary of Defense (Comptroller) and Deputy Under Secretary of Defense (Management Reform)

DDGS00612 Special Assistant to the Director, Program Analysis and Evaluation to the Director, Program Analysis and Evaluation

DDGS00658 Staff Assistant to the Deputy Assistant Secretary of Defense (Eurasia)

DDGS00661 Staff Assistant to the Assistant Secretary of Defense (International Secretary Policy)

DDGS00663 Staff Assistant and Regional Director for the Levant to the Deputy Under Secretary of Defense (Special Plans and Near East/South Asian Affairs)

DDGS00664 Staff Assistant to the Assistant Secretary of Defense (International Secretary Policy)

DDGS00665 Staff Assistant to the Principal Deputy Assistant Secretary of Defense (Special Operations/Low Intensity Conflict)

DDGS00673 Staff Assistant to the Deputy Under Secretary of Defense (Special Plans and Near East/South Asian Affairs)

DDGS00682 Staff Assistant to the Deputy Assistant Secretary of Defense (Asia and Pacific)

DDGS00685 Staff Assistant to the Deputy Under Secretary of Defense (Special Plans and Near East/South Asian Affairs)

DDGS00688 Special Assistant to the Principal Deputy Under Secretary of Defense for Policy to the Principal Deputy Under Secretary of Defense for Policy

DDGS02518 Chief of Staff to the Inspector General

DDGS16620 Staff Specialist to the Director, Small and Disadvantaged Business Utilities

DDGS16638 Special Advisor to the Under Secretary of Defense (Policy) to the Under Secretary of Defense for Policy

DDGS16648 Confidential Assistant to the Assistant Secretary of Defense (Command, Control, Community and Intelligence)

DDGS16651 Defense Fellow to the Special Assistant to the Secretary of Defense for White House Liaison

DDGS16652 Defense Fellow to the Special Assistant to the Secretary of Defense for White House Liaison

DDGS16653 Protocol Officer to the Director of Protocol

DDGS16654 Staff Assistant to the Deputy Assistant Secretary of Defense (Eurasia)

DDGS16657 Defense Fellow to the Special Assistant to the Secretary of Defense for White House Liaison

DDGS16660 Director of Assessments to the Deputy Under Secretary of Defense (International Technology Security)

DDGS16666 Defense Fellow to the Special Assistant to the Secretary of Defense for White House Liaison

DDGS16667 Public Affairs Specialist to the Deputy Assistant Secretary of Defense for Public Affairs (Communications)

DDGS16668 Special Assistant to the Assistant Secretary of Defense (Public Affairs)

DDGS16669 Defense Fellow to the Special Assistant to the Secretary of Defense for White House Liaison

DDGS16670 Defense Fellow to the Special Assistant to the Secretary of Defense for White House Liaison

DDGS16679 Staff Specialist to the Deputy Under Secretary of Defense (Logistics and Materiel Readiness)

DDGS16683 Staff Assistant to the Deputy Under Secretary of Defense (Special Plans and Near East/South Asian Affairs)

DDGS16685 Administrative Assistant to the Special Assistant to the Secretary of Defense for White House Liaison

DDGS16689 Defense Fellow to the Special Assistant to the Secretary of Defense for White House Liaison

DDGS16693 Defense Fellow to the Special Assistant to the Secretary of Defense for White House Liaison

DDGS16707 Defense Fellow to the Special Assistant to the Secretary of Defense for White House Liaison

DDGS60001 Staff Specialist to the Under Secretary of Defense (Acquisition, Technology, and Logistics)

Section 213.336 Office of the Secretary of Defense

DDGS60003 Special Assistant to the Deputy Under Secretary of Defense (International Technology Security)

DDGS60007 Personal and Confidential Assistant to the Assistant to the Secretary of Defense (Nuclear, Chemical and Biological Defense Programs)

DDGS60033 Personal Secretary to the Deputy Secretary of Defense

DDGS60270 Confidential Assistant to the Executive Secretary to the Senior Executive Council

DDGS60271 Private Secretary to the Assistant Secretary of Defense (Reserve Affairs)

DDGS60273 Civilian Executive Assistant to the Special Assistant to the Secretary of Defense for White House Liaison

DDGS60274 Staff Assistant to the Special Assistant to the Secretary of Defense for White House Liaison

DDGS60275 Confidential Assistant to the Assistant Secretary of Defense (Force Management Policy)

DDGS60278 Special Assistant to the Inspector General

DDGS60280 Special Assistant to the Principal Deputy Assistant Secretary of Defense (Legal Affairs)

DDGS60283 Special Assistant to the Principal Deputy Assistant Secretary of Defense (Legal Affairs)

DDGS60305 Personal and Confidential Assistant to the Under Secretary of Defense (Personnel and Readiness)

DDGS60307 Confidential Assistant to the Special Assistant to the Secretary and Deputy Secretary of Defense

DDGS60312 Director, Cooperative Threat Reduction to the Assistant Secretary of Defense (International Secretary Policy)

DDGS60314 Coordinator of Reserve Integration to the Principal Deputy Assistant Secretary of Defense (Reserve Affair)

DDGS60317 Director of Protocol to the Special Assistant to the Secretary and Deputy Secretary of Defense

DDGS60318 Defense Fellow to the Special Assistant to the Secretary of Defense for White House Liaison

DDGS60319 Confidential Assistant to the Deputy Secretary of Defense

DDGS60320 Personal and Confidential Assistant to the Secretary of Defense

DDGS60332 Personal and Confidential Assistant to the Assistant Secretary of Defense (International Security Affairs)

DDGS60333 Speechwriter to the Special Assistant for Speechwriting

DDGS60368 Personal and Confidential Assistant to the Assistant Secretary of Defense (Legislative Affairs)

DDGS60454 Special Assistant to the Director of Net Assessment

DDGS60456 Director, Management Initiatives to the Under Secretary of Defense (Personnel and Readiness)

DDGS60457 Special Assistant (Joint Chiefs of Staff) to the Special Assistant to the Secretary of Defense for White House Liaison

DDGS60469 Special Assistant (Communications) to the Principal Deputy Assistant Secretary of Defense (Legal Affairs)

DDGS60470 Defense Fellow to the Special Assistant to the Secretary of Defense for White House Liaison

DDGS60471 Public Affairs Specialist to the Deputy Assistant Secretary of Defense (Strategic Communications Planning)

DDGS60473 Personal and Confidential Assistant to the Assistant Secretary of Defense (International Security Affairs)

DDGS60474 Special Assistant to the Principal Deputy Assistant Secretary of Defense (Special Operations/Low Intensity Conflict)

DDGS60475 Staff Assistant to the Deputy Assistant Secretary of Defense (Forces Policy)

DDGS60518 Public Affairs Specialist to the Assistant Secretary of Defense Public Affairs

DDGS60520 Special Assistant to the Deputy Assistant Secretary of Defense (Prisoners of War/Military Police)/Director, Prisoners of War Missing Persons Office

DDGS60530 Writer-Editor to the Public Affairs Specialist

DDGS60580 Staff Assistant to the Assistant Secretary of Defense (International Secretary Policy)

DDGS60584 Writer-Editor to the Assistant Secretary of Defense Public Affairs

DDGS60585 Special Assistant to the Assistant Secretary of Defense Public Affairs

DDGS60611 Personal and Confidential Assistant to the Secretary of Defense

DDGS60615 Defense Fellow to the Special Assistant to the Secretary of Defense for White House Liaison

DDGS60620 Speech Writer to the Special Assistant for Speechwriting

DDGS60621 Defense Fellow to the Special Assistant to the Secretary of Defense for White House Liaison

DDGS60623 Public Affairs Specialist to the Assistant Secretary of Defense Public Affairs

DDGS60625 Executive Assistant to the Special Assistant to the Secretary of Defense for White House Liaison

DDGS60643 Personal and Confidential Assistant to the Under Secretary of Defense (Acquisition, Technology, and Logistics)

DDGS60650 Electronic Commerce Specialist to the Deputy Assistant Secretary of Defense (Deputy Chief Information Officer)

DDGS60651 Personal and Confidential Assistant to the Under Secretary of Defense (Comptroller)

DDGS60668 Public Affairs Specialist to the Deputy Assistant Secretary of Defense (Strategic Communications Planning)

DDGS60669 Public Affairs Specialist to the Deputy Assistant Secretary of Defense (Strategic Communications Planning)

DDGS60672 Defense Fellow to the Special Assistant to the Secretary of Defense for White House Liaison

DDGS60677 Research Assistant to the Deputy Assistant Secretary of Defense (Strategic Communications Planning)

DDGS60680 Confidential Assistant to the Deputy Secretary of Defense

DDGS60686 Personal and Confidential Assistant to the General Counsel

DDGS60687 Defense Fellow to the Special Assistant to the Secretary of Defense for White House Liaison

DDGS60690 Personal and Confidential Assistant to the Secretary of Defense

DDGS60691 Special Policy Advisor to the Under Secretary of Defense for Policy

DDGS60694 Staff Assistant to the Assistant Secretary of Defense (International Security Affairs)

DDGS60695 Defense Fellow to the Special Assistant to the Secretary of Defense for White House Liaison

DDGS60697 Deputy White House Liaison to the Special Assistant to the Secretary of Defense for White House Liaison

DDGS60699 Special Advisor to the Under Secretary of Defense for Policy

Section 213.3307 Department of the Army

DWGS00080 Confidential Assistant to the General Counsel

DWGS00081 Assistant for Water Resources Policy to the Deputy Assistant Secretary of the Army (Legislation)

DWGS00085 Personal and Confidential Assistant to the Assistant Secretary Army (Installations, Logistics and Environment)

DWGS60001 Executive Staff Assistant to the Secretary of the Army

DWGS60002 Special Assistant to the Secretary of the Army

DWGS60003 Special Assistant to Army General Counsel

DWGS60005 Confidential Assistant to the Under Secretary of the Army

DWGS60006 Special Assistant to the Assistant Secretary of the Army (Installations, Logistics and Environment)

DWGS60025 Personal and Confidential Assistant to the Assistant Secretary of the Army (Financial Management and Comptroller)

DWGS60026 Special Assistant to the General Counsel

Section 213.3308 Department of the Navy

DNGS00064 Confidential Assistant to the Assistant Secretary of Navy (Installations and Environment)

DNGS00070 Confidential Assistant to the Assistant Secretary of the Navy (Research Development and Acquisition)

DNGS60001 Residence Manager and Social Secretary to the Deputy Assistant Secretary of the Navy (Installations and Facilities)

DNGS60056 Confidential Assistant to the Assistant Secretary Financial Management

DNGS60066 Staff Assistant to the Secretary of the Navy

DNGS60071 Special Assistant to the Secretary of the Navy

Section 213.3309 Department of the Air Force

DFGS60007 Confidential Assistant to the Assistant Secretary (Financial Management and Comptroller)

DFGS60042 Special Assistant for Community Relations to the Special Assistant for Policy and Planning

DFGS60044 Confidential Assistant to the Secretary

Section 213.3310 Department of Justice

DJGS00030 Research Assistant to the Director, Office of Public Affairs

DJGS00031 Special Assistant to the Assistant Attorney General Criminal Division

DJGS00032 Public Affairs Specialist to the Director, Office of Public Affairs

DJGS00033 Counsel to the Assistant Attorney General

DJGS00035 Counsel (Senior Attorney) to the Administrator, Drug Enforcement Administration

DJGS00076 Public Affairs Specialist to the United States Attorney

DJGS00101 Special Assistant to the Director, Office of Public Affairs

DJGS00116 Special Assistant to the Director

DJGS00141 Special Assistant to the Assistant Attorney General Criminal Division

DJGS00191 Counsel to the Assistant Attorney General Civil Division

DJGS00216 Special Assistant to the Director of the Bureau of Justice Assistance

DJGS00218 Special Assistant to the Assistant Attorney General for Justice Programs

Section 213.3310 Department of Justice

DJGS00219 Principal Deputy Director to the Director of the Bureau of Justice Assistance

DJGS00235 Senior Advisor to the Director, Office of Public Affairs

DJGS00275 Counsel to the Assistant Attorney General (Legal Policy)

DJGS00282 Special Assistant to the Assistant Attorney General (Legal Policy)

DJGS00330 Special Assistant to the Director

DJGS00332 Special Assistant to the Assistant Attorney General

DJGS00380 Principal Deputy Director to the Director, Office of Public Affairs

DJGS00440 Staff Assistant to the Assistant Attorney General Tax Division

DJGS00441 Counsel to the Assistant Attorney General Tax Division

DJGS60014 Deputy Administrator to the Administrator Juvenile Justice Delinquency Prevention

DJGS60015 Deputy Director to the Director, National Institute of Justice

DJGS60016 Staff Assistant to the Director, Bureau of Justice Statistics

DJGS60017 Special Assistant to the Director, Office of Domestic Preparedness

DJGS60019 Special Assistant to the Chairman

DJGS60020 Director, Office of Police Corps and Law Enforcement Education to the Principal Deputy Assistant Attorney General

DJGS60023 Special Assistant for International Protocol to the Director, Office of International Affairs

DJGS60024 Special Assistant to the Administrator, Drug Enforcement Administration

DJGS60038 Secretary (Office Automation) to the United States Attorney

DJGS60040 Secretary (Office Automation) to the United States Attorney

DJGS60070 Attorney Advisor to the Assistant Attorney General Civil Division

DJGS60115 Special Assistant to the Director

DJGS60129 Special Counsel to the Assistant Attorney General

DJGS60144 Special Assistant to the Solicitor General

DJGS60165 Counsel to the Associate Attorney General to the Associate Attorney General

DJGS60172 Secretary (Office Automation) to the United States Attorney

DJGS60173 Secretary (Office Automation) to the United States Attorney

DJGS60174 Secretary (Office Automation) to the United States Attorney

DJGS60176 Public Affairs Specialist to the Director, Office of Public Affairs

DJGS60187 Counsel to the Assistant Attorney General Civil Division

DJGS60188 Attorney Advisor to the Assistant Attorney General Civil Division

DJGS60189 Attorney Advisor to the Assistant Attorney General Civil Division

DJGS60190 Senior Counsel to the Assistant Attorney General (Legal Policy)

DJGS60198 Special Assistant to the Assistant Attorney General Criminal Division

DJGS60199 Counsel to the Director, Office of International Affairs

DJGS60208 Confidential Assistant to the Director, Office of Public Affairs

DJGS60233 Attorney Advisor to the Assistant Attorney General Civil Division

DJGS60242 Attorney Advisor to the Assistant Attorney General Civil Division

DJGS60246 Counsel to the Assistant Attorney General Environment and Natural Resources

DJGS60256 Senior Counsel for Voting Reform to the Assistant Attorney General

DJGS60266 Press Aide to the Director, Office of Public Affairs

DJGS60267 Counsel to the Assistant Attorney General to the Assistant Attorney General

DJGS60268 Counsel to the Assistant Attorney General

DJGS60270 Special Assistant to the Assistant Attorney General

DJGS60272 Deputy Director and Counsel, Faith-Based Task Force to the Principal Deputy Assistant Attorney General

DJGS60277 Director of Scheduling and Advance to the Attorney General

DJGS60279 Deputy Director to the Senior Counsel to the Assistant Attorney General

DJGS60293 Special Assistant to the Deputy Attorney General

DJGS60322 Counsel to the Assistant Attorney General (Legal Policy)

DJGS60346 Deputy Director and Senior Advisor to the Director, Office of Public Affairs

DJGS60367 Confidential Assistant to the Attorney General

DJGS60383 Assistant to the Attorney General, Scheduling and Advance to the Director of Scheduling and Advance

DJGS60388 Staff Assistant to the Director

DJGS60406 Public Affairs Spec to the Director, Office of Public Affairs

DJGS60409 Staff Assistant to the Assistant Attorney General for Justice Programs

DJGS60417 Public Affairs Specialist to the United States Attorney

DJGS60418 Secretary (Office Automation) to the United States Attorney

DJGS60420 Secretary (Office Automation) to the United States Attorney

DJGS60423 Secretary (Office Automation) to the United States Attorney

DJGS60426 Secretary (Office Automation) to the United States Attorney

DJGS60427 Secretary (Office Automation) to the United States Attorney

DJGS60429 Secretary (Office Automation) to the United States Attorney

DJGS60430 Secretary (Office Automation) to the United States Attorney

DJGS60436 Secretary (Office Automation) to the United States Attorney

DJGS60437 Secretary (Office Automation) to the United States Attorney

DJGS60439 Senior Advisor to the Assistant Attorney General Tax Division

DJGS60445 Special Assistant to the Director, Community Relations Service

DJGS60448 Secretary (Office Automation) to the United States Attorney

Section 213.3311 Department of Homeland Security

DMGS00002 Scheduler to the Secretary of the Department of Homeland Security

DMGS00004 Executive Assistant to the Secretary of the Department of Homeland Security

DMGS00005 Executive Assistant to the Secretary of the Department of Homeland Security

DMGS00009 White House Liaison to the Chief of Staff

DMGS00010 Deputy White House Liaison to the White House Liaison

DMGS00012 Special Assistant for Special Projects to the Chief of Staff

DMGS00013 Special Assistant to the Assistant Secretary for Public Affairs

DMGS00014 Special Assistant to the Assistant Secretary for Public Affairs

DMGS00015 Speechwriter to the Assistant Secretary for Public Affairs

DMGS00016 Assistant Press Secretary to the Assistant Secretary for Public Affairs

DMGS00017 Executive Assistant to the Inspector General

DMGS00018 Special Assistant to the Under Secretary for Border and Transportation Security

DMGS00019 Executive Secretariat to the Under Secretary for Border and Transportation Security

DMGS00021 Press Secretary to the Assistant Secretary for Public Affairs

DMGS00022 Advance Representative to the Chief of Staff

DMGS00024 Business Liaison to the Special Assistant

DMGS00026 Staff Assistant to the Special Assistant

DMGS00027 Scheduler to the Secretary of the Department of Homeland Security

DMGS00028 Personal Assistant to the Secretary of the Department of Homeland Security

DMGS00029 Research Assistant to the Assistant Secretary for Public Affairs

DMGS00041 Executive Assistant to the Under Secretary for Science and Technology

DMGS00043 Policy Analyst to the Under Secretary for Border and Transportation Security

DMGS00044 Special Assistant to the Assistant Secretary for Infrastructure Protection

DMGS00045 Staff Assistant to the Under Secretary for Science and Technology

DMGS00046 Information Technology Specialist (Internet) to the Assistant Secretary for Public Affairs

DMGS00047 Staff Assistant to the Director, State and Local Affairs

DMGS00049 Press Secretary (Science and Technology) to the Assistant Secretary for Public Affairs

DMGS00050 Director of Speechwriting to the Assistant Secretary for Public Affairs

DMGS00051 Business Analyst to the Special Assistant

DMGS00056 Scheduler to the Under Secretary for Management

DMGS00057 Director, Local Affairs to the Director, State and Local Affairs

DMGS00058 Special Assistant to the Director, Bureau of Citizenship and Immigration Services

DMGS00059 Director for State Affairs to the Director, State and Local Affairs

DMGS00060 Executive Assistant to the Assistant Secretary for Plans, Programs and Budgets

DMGS00061 Press Assistant to the Assistant Secretary for Public Affairs

DMGS00063 Business Liaison to the Special Assistant

DMGS00066 Associate Executive Secretary (Internal Coordination) to the Executive Secretary

DMGS00067 Deputy Press Secretary to the Assistant Secretary for Public Affairs

DMGS00068 Staff Assistant to the Deputy Secretary of the Department of Homeland Security

DMGS00069 Special Assistant to the Under Secretary for Management

DMGS00073 Staff Assistant to the Executive Secretary

DMGS00080 Director of Communications for Immigration and Customs Enforcement to the Assistant Secretary for Public Affairs

DMGS00081 Executive Assistant to the Executive Director, Homeland Security Advisory Council

DMGS00085 Confidential Assistant to the Assistant Secretary for Information Analysis

DMGS00089 Executive Assistant to the Under Secretary for Emergency Preparedness and Response

DMGS70008 Deputy Chief of Staff/White House Liaison to the Director, Federal Emergency Management Agency

DMGS70009 Special Assistant to the Chief Information Officer to the Assistant Director/Chief Information Officer

DMGS70011 Advisor for Media Affairs to the Director

DMGS70014 Special Assistant to the Division Director

DMGS70015 Special Assistant to the Deputy Director, Federal Emergency Management Agency

DMGS70018 Special Assistant (Coordination/Advance) to the Director, Federal Emergency Management Agency

DMGS70019 Executive Assistant to the Assistant Director

DMGS70020 Staff Assistant to the Assistant Director

DMGS70023 Assistant Division Director, Congressional and Intergovernmental Affairs to the Director, Congressional and Intergovernmental Affairs

DMGS72017 Deputy Director, Public Affairs Division to the Director

Section 213.3312 Department of the Interior

DIGS01000 Special Assistant to the Director Minerals Management Service

DIGS01001 Special Assistant—Scheduling and Advance to the Director of Scheduling and Advance

DIGS01003 Special Assistant—Lewis and Clark to the Director, External and Intergovernmental Affairs

DIGS01009 Press Secretary to the Director, Office of Communications

DIGS01010 Special Advisor for Economic Policy to the Deputy Assistant Secretary—Insular Affairs

DIGS01013 Special Assistant to the White House Liaison

DIGS01016 Counselor to the Assistant Secretary—Indian Affairs to the Assistant Secretary of Indian Affairs

DIGS01017 Hispanic Media Outreach Coordinator to the Director, Office of Communications

DIGS60019 Deputy Director to the Director, External and Intergovernmental Affairs

DIGS60025 Special Assistant to the Secretary

DIGS60037 Hispanic Media Outreach Coordinator to the Director, Office of Communications

DIGS60068 Associate Director to the Director, Congressional and Legislative Affairs

DIGS60073 Speechwriter to the Director, Office of Communications

DIGS60075 Chief, Congressional and Legislative Affairs to the Director, External and Intergovernmental Affairs

DIGS60086 Special Assistant to the Director Minerals Management Service

DIGS60091 Special Assistant to the Director, External and Intergovernmental Affairs

DIGS60092 Special Assistant to the Director, External and Intergovernmental Affairs

DIGS60095 Special Assistant-Communications to the Assistant Secretary of Indian Affairs

DIGS60103 Special Assistant to the Assistant Secretary of Indian Affairs

DIGS60118 Counselor to Assistant Secretary-Indian Affairs to the Assistant Secretary of Indian Affairs

DIGS60124 Special Assistant to the Director, United States Fish and Wildlife Service

DIGS60129 Special Assistant to the Assistant Secretary for Fish and Wildlife and Parks

DIGS60141 Director of Scheduling and Advance to the Chief of Staff

DIGS60150 Special Assistant to the Assistant Secretary Policy Management and Budget

DIGS60151 Special Assistant to the Deputy Secretary of the Interior

DIGS60490 Special Assistant (Advance) to the Deputy Chief of Staff

DIGS60518 Special Assistant to the Director Bureau of Land Management

DIGS60525 Special Assistant to the Assistant Secretary-Land and Minerals Management

DIGS60526 Special Assistant to the Chief of Staff

DIGS60531 Special Assistant to the Solicitor

DIGS60535 Special Assistant to the Assistant Secretary for Water and Science

DIGS60551 Special Assistant for Scheduling and Advance to the Deputy Chief of Staff

DIGS60559 Special Assistant for Scheduling and Advance to the Deputy Chief of Staff

DIGS60560 Associate Director—Senate to the Director, Congressional and Legislative Affairs

DIGS60561 Special Assistant to the Secretary for Alaska to the Chief of Staff

DIGS60567 White House Liaison to the Chief of Staff

Section 213.3313 Department of Agriculture

DAGS00139 Director of External Affairs to the Administrator for Risk Management

DAGS00154 Special Assistant to the Chief of Staff

DAGS00155 Deputy Executive Director, Center for Nutrition Policy and Promotion to the Executive Director, Center for Nutrition Policy and Promotion

DAGS00157 Special Assistant to the Under Secretary for Research, Education and Economics

DAGS00158 Director of Constituent Affairs to the Deputy Chief of Staff

DAGS00160 Special Assistant to the Administrator to the Administrator, Farm Service Agency

DAGS00161 Confidential Assistant to the Chief to the Chief, Natural Research Conservation Service

DAGS00164 Director of Web Design to the Deputy Chief of Staff

DAGS00165 Special Assistant for the Office of Homeland Security to the Secretary

DAGS00166 Confidential Assistant to the Confidential Assistant

DAGS00169 Director of Hispanic Outreach to the Deputy Chief of Staff

DAGS00170 Confidential Assistant to the Administrator to the Administrator for Risk Management

DAGS00171 Confidential Assistant to the Under Secretary for Rural Development

DAGS00172 Confidential Assistant to the Assistant Secretary for Congressional Relations

DAGS00174 Confidential Assistant to the Assistant Secretary for Congressional Relations

DAGS00176 Confidential Assistant to the Assistant Secretary for Congressional Relations

DAGS00178 Confidential Assistant to the Under Secretary for Marketing and Regulatory Programs

DAGS00179 Special Assistant to the Administrator for Risk Management

DAGS00181 Special Assistant to the Under Secretary for Natural Resources and Environment

DAGS00182 Special Assistant to the Chief to the Chief, Natural Research Conservation Service

DAGS00183 Director, Tobacco Programs to the Deputy Administrator

DAGS00184 Confidential Assistant to the Assistant Secretary for Congressional Relations

DAGS00185 Confidential Assistant to the Assistant Secretary for Congressional Relations

DAGS00186 White House Liaison to the Secretary

DAGS00187 Confidential Assistant to the Deputy Secretary

DAGS00188 Special Assistant to the Director, Intergovernmental Affairs

DAGS00189 Director, Native American Programs to the Assistant Secretary for Administration

DAGS00191 Special Assistant to the Administrator, Farm Service Agency

DAGS60035 Staff Assistant to the Administrator for Risk Management

DAGS60105 Confidential Assistant to the Chief of Staff

DAGS60110 Confidential Assistant to the Secretary

DAGS60111 Confidential Assistant to the Under Secretary for Marketing and Regulatory Programs

DAGS60114 Confidential Assistant to the Deputy Secretary

DAGS60116 Confidential Assistant to the Under Secretary for Rural Development

DAGS60119 Director, Legislative and Intergovernmental Affairs to the Under Secretary for Research, Education and Economics

DAGS60121 Confidential Assistant to the Chief Financial Officer

DAGS60123 Special Assistant to the Under Secretary for Natural Resources and Environment

DAGS60127 Confidential Assistant to the Assistant Secretary for Congressional Relations

DAGS60129 Special Assistant to the Administrator for Risk Management

DAGS60130 Confidential Assistant to the Deputy Assistant Secretary for Administration

DAGS60131 Director of Advance to the Director of Communications

DAGS60132 Special Assistant to the Under Secretary for Food Safety

DAGS60135 Confidential Assistant to the Administrator, Foreign Agricultural Service

DAGS60137 Special Assistant to the Administrator

DAGS60138 Special Assistant to the Administrator

DAGS60140 Confidential Assistant to the Director, Office of Small and Disadvantaged Business Utilization

DAGS60147 Confidential Assistant to the Administrator, Rural Housing Service

DAGS60151 Special Assistant to the Administrator for Risk Management

DAGS60159 Special Assistant to the Administrator, Foreign Agricultural Service

DAGS60231 Director, Legislative and Public Affairs Staff to the Deputy Under Secretary for Rural Development

DAGS60263 Special Assistant to the Chief, Natural Research Conservation Service

DAGS60275 Confidential Assistant to the Assistant Secretary for Congressional Relations

DAGS60332 Confidential Assistant to the Administrator

DAGS60355 Director of Speech Writing to the Director of Communications

DAGS60369 Staff Assistant to the Deputy Chief of Staff

DAGS60377 Confidential Assistant to the Administrator

DAGS60384 Confidential Assistant to the Secretary

DAGS60386 Special Assistant to the Administrator

DAGS60415 Confidential Assistant to the Administrator

DAGS60422 Confidential Assistant to the Administrator, Farm Service Agency

DAGS60427 Confidential Assistant to the Chief of Staff

DAGS60436 Confidential Assistant to the Administrator

DAGS60451 Special Assistant to the Administrator, Farm Service Agency

DAGS60486 Deputy Press Secretary to the Deputy Chief of Staff

DAGS60534 Confidential Assistant to the Director of Communications

DAGS60556 Confidential Assistant to the Administrator, Animal and Plant Health Inspection Service

DAGS60565 Confidential Assistant to the Administrator, Animal and Plant Health Inspection Service

DAGS60566 Confidential Assistant to the Administrator

DAGS60592 Special Assistant to the Administrator, Farm Service Agency

Section 213.3314 Department of Commerce

DCGS00072 Director, Intergovernmental Affairs to the Deputy Assistant Secretary for Programs Research and Evaluation

DCGS00160 Confidential Assistant to the Deputy Assistant Secretary for Export Promotion Services

DCGS00237 Special Assistant to the Assistant Secretary for Trade Development

DCGS00252 Confidential Assistant to the Director, Executive Secretariat

DCGS00267 Confidential Assistant to the Under Secretary for Export Administration

DCGS00275 Special Assistant to the Director, Office of Business Liaison

DCGS00321 Director, Office of Public Affairs to the Under Secretary for International Trade

DCGS00368 Congressional Affairs Specialist to the Director, Office of Legislative Affairs

DCGS00380 Confidential Assistant to the Deputy Assistant Secretary for Export Promotion Services

DCGS00388 Confidential Assistant to the Executive Director, Office of Export Assistance and Business Outreach

DCGS00444 Senior Advisor to the Assistant Secretary for Economic Development

DCGS00452 Confidential Assistant to the Chief of Staff

DCGS00462 Senior Counsel to the Assistant Secretary and Commissioner of Patents and Trademarks

DCGS00488 Special Assistant to the Director, Executive Secretariat

DCGS00507 Confidential Assistant to the Deputy Assistant Secretary for Export Promotion Services

DCGS00529 Policy Advisor to the Deputy Assistant Secretary for Energy, Environment and Materials

DCGS00531 Confidential Assistant to the Deputy Assistant Secretary for Transportation and Machinery

DCGS00536 Speechwriter to the Director for Speechwriting

DCGS00540 Confidential Assistant to the Deputy Chief of Staff

DCGS00570 Senior Policy Advisor to the Assistant to the Secretary and Director, Office of Policy and Strategic Planning

DCGS00611 Senior Advisor to the Under Secretary for International Trade

DCGS00623 Special Assistant to the Assistant Secretary for Market Access and Compliance

DCGS00631 Policy Advisor to the Director, Office of Legislative Affairs

DCGS00652 Confidential Assistant to the Director of Public Affairs

DCGS00653 Deputy Director, Office of Public Affairs to the Director of Public Affairs

DCGS00658 Confidential Assistant to the Under Secretary for International Trade

DCGS00684 Director for Speechwriting to the Director of Public Affairs

DCGS00686 Director of Advance to the Chief of Staff

DCGS00689 Special Assistant to the Director, Office of External Affairs

DCGS60004 Deputy Director to the Director, Executive Secretariat

DCGS60173 Senior Advisor to the Assistant Secretary for Economic Development

DCGS60181 Senior Advisor to the Assistant Secretary for Telecommunications and Information

DCGS60189 Special Assistant to the Assistant Secretary for Telecommunications and Information

DCGS60193 Special Assistant to the Deputy Assistant Secretary for Service Industries, Tourism and Finance

DCGS60194 Special Assistant to the Chief of Staff

DCGS60225 Director, Congressional and Public Affairs to the Under Secretary for Export Administration

DCGS60228 Special Assistant for National Marine Fisheries Service to the Director, Office of Legislative Affairs

DCGS60232 Chief Counsel to the Assistant Secretary for Economic Development

DCGS60261 Deputy Communications Director to the Director of Communications

DCGS60276 Executive Assistant to the Under Secretary for Economic Affairs

DCGS60282 Special Assistant to the Assistant Secretary for Congressional and Intergovernmental Affairs

DCGS60287 Confidential Assistant to the Assistant Secretary for Export Administration

DCGS60289 Intergovernmental Affairs Specialist to the Director—Office of Organization and Management Systems

DCGS60290 Special Assistant to the Director, Office of Business Liaison

DCGS60291 Public Affairs Specialist to the Deputy Director, Office of Public Affairs

DCGS60292 Legislative Affairs Specialist to the Assistant Secretary for Congressional and Intergovernmental Affairs

DCGS60302 Director of External Affairs to the Director, Office of Public and Constituent Affairs

DCGS60308 Special Assistant to the Executive Director, Office of Export Assistance and Business Outreach

DCGS60309 Senior Advisor to the Director, Minority Business Development Agency

DCGS60317 Confidential Assistant to the Assistant Secretary for Trade Development

DCGS60326 Confidential Assistant to the Deputy Assistant Secretary for Domestic Operations

DCGS60330 Special Assistant to the Director Advocacy Center

DCGS60342 Deputy Director to the Director, Office of White House Liaison

DCGS60343 Confidential Assistant to the Deputy Assistant Secretary for Export Promotion Services

DCGS60354 Public Affairs Specialist to the Assistant Secretary for Telecommunications and Information

DCGS60372 Senior Policy Advisor to the Under Secretary Oceans and Atmosphere (Administrator National Oceanic and Atmospheric Administration)

DCGS60384 Public Affairs Specialist to the Assistant Director for Operations

DCGS60385 Senior Analyst to the Director

DCGS60387 Confidential Assistant to the Director, Office of Legislative Affairs

DCGS60393 Legislative Affairs Specialist to the Assistant Secretary for Congressional and Intergovernmental Affairs

DCGS60396 Congressional Affairs Specialist to the Director, Office of Legislative Affairs

DCGS60402 Chief of Staff to the Under Secretary Oceans and Atmosphere (Administrator National Oceanic and Atmospheric Administration)

DCGS60409 Confidential Assistant to the Executive Assistant

DCGS60410 Executive Assistant to the Under Secretary for International Trade

DCGS60412 Director of Communications to the Assistant Secretary for Trade Development

DCGS60415 Congressional Affairs Specialist to the Director, Office of Legislative Affairs

DCGS60423 Special Assistant to the Assistant Secretary and Commissioner of Patents and Trademarks

DCGS60424 Legislative Affairs Specialist to the Under Secretary for International Trade

DCGS60445 Public Affairs Specialist to the Assistant Secretary for Economic Development

DCGS60446 Senior Advisor to the Under Secretary for Export Administration

DCGS60448 Confidential Assistant to the Assistant Secretary for Market Access and Compliance

DCGS60490 Director of Scheduling to the Chief of Staff

DCGS60494 Deputy Press Secretary to the Director of Public Affairs

DCGS60512 Special Advisor to the Under Secretary for Export Administration

DCGS60527 Executive Assistant to the Secretary

DCGS60532 Senior Counsel to the General Counsel

DCGS60533 Confidential Assistant to the Assistant Secretary and Commissioner of Patents and Trademarks

DCGS60544 Senior Advisor to the Under Secretary for International Trade

DCGS60551 Legislative Specialist to the Assistant Secretary for Congressional and Intergovernmental Affairs

DCGS60573 Special Assistant to the Assistant Secretary and Director General of United States/For Commercial Services

DCGS60583 Special Assistant to the Assistant Secretary for Administrator and Chief Financial Officer

DCGS60589 Policy Advisor to the Director of Public Affairs

DCGS60604 Associate Under Secretary for Communications to the Under Secretary for Economic Affairs

DCGS60646 Public Affairs Specialist to the Deputy Director, Office of Public Affairs

DCGS60648 Press Secretary to the Director of Public Affairs

DCGS60659 Director, Office of White House Liaison to the Chief of Staff

DCGS60677 Special Assistant to the Assistant to the Secretary and Director, Office of Policy and Strategic Planning

DCGS60681 Special Assistant to the Assistant Secretary for Market Access and Compliance

DCGS60688 Confidential Assistant to the Assistant Secretary for Market Access and Compliance

DCGS60690 Special Assistant to the Assistant Secretary for Market Access and Compliance

DCGS60694 Chief, Congressional Affairs to the Under Secretary for Economic Affairs

Section 213.3315 Department of Labor

DLGS00160 Staff Assistant to the Director of Public Liaison

DLGS60007 Special Assistant to the Secretary of Labor

DLGS60009 Staff Assistant to the Assistant Secretary for Congressional and Intergovernmental Affairs

DLGS60011 Staff Assistant to the Chief Financial Officer

DLGS60015 Special Assistant to the Assistant Secretary for Congressional and Intergovernmental Affairs

DLGS60017 Senior Legislative Officers to the Assistant Secretary for Congressional and Intergovernmental Affairs

DLGS60041 Staff Assistant to the Secretary of Labor

DLGS60044 Attorney Advisor (Labor) to the Solicitor of Labor

DLGS60055 Special Assistant to the Assistant Secretary for Public Affairs

DLGS60076 Special Assistant to the Assistant Secretary for Employment Standards

DLGS60077 Special Assistant to the Chief Financial Officer

DLGS60089 Staff Assistant to the Executive Secretary

DLGS60091 Special Assistant to the Assistant Secretary for Administration and Management

DLGS60093 Special Assistant to the Secretary of Labor

DLGS60094 Director of Media Affairs to the Assistant Secretary for Public Affairs

DLGS60099 Special Assistant to the Deputy Assistant Secretary for Employment and Training

DLGS60101 Chief of Staff to the Assistant Secretary for Employment Standards

DLGS60103 Regional Representative to the Assistant Secretary for Congressional and Intergovernmental Affairs

DLGS60104 Secretary's Representative to the Assistant Secretary for Congressional and Intergovernmental Affairs

DLGS60107 Secretary's Representative to the Assistant Secretary for Congressional and Intergovernmental Affairs

DLGS60110 Regional Representative to the Assistant Secretary for Congressional and Intergovernmental Affairs

DLGS60111 Secretary's Representative to the Assistant Secretary for Congressional and Intergovernmental Affairs

DLGS60112 Secretary's Representative to the Assistant Secretary for Congressional and Intergovernmental Affairs

DLGS60113 Special Assistant to the Deputy Assistant Secretary

DLGS60118 Staff Assistant to the Secretary of Labor

DLGS60120 Senior Legislative Officer to the Assistant Secretary for Congressional and Intergovernmental Affairs

DLGS60121 Special Assistant to the Secretary of Labor

DLGS60123 Special Assistant to the Deputy Assistant Secretary

DLGS60125 Special Assistant to the Chief of Staff

DLGS60126 Staff Assistant to the Wage and Hour Administrator

DLGS60127 Staff Assistant to the Deputy Assistant Secretary for Labor-Management Programs

DLGS60130 Research Assistant to the Assistant Secretary for Congressional and Intergovernmental Affairs

DLGS60131 Special Assistant to the Assistant Secretary for Employment and Training

DLGS60132 Special Assistant to the Director of Public Liaison

DLGS60133 Special Assistant to the Director of the Women's Bureau

DLGS60138 Chief of Staff to the Assistant Secretary for Mine Safety and Health

DLGS60139 Special Assistant to the Assistant Secretary for Public Affairs

DLGS60144 Special Assistant to the Executive Assistant to the Secretary

DLGS60145 Intergovernmental Officer to the Assistant Secretary for Congressional and Intergovernmental Affairs

DLGS60147 Attorney-Advisor (Labor) to the Solicitor of Labor

DLGS60152 Deputy Director to the Director of the Women's Bureau

DLGS60154 Senior Legislative Officer to the Assistant Secretary for Congressional and Intergovernmental Affairs

DLGS60159 Special Assistant to the Deputy Under Secretary for International Affairs

DLGS60161 Staff Assistant to the Assistant Secretary for Public Affairs

DLGS60163 Special Assistant to the Assistant Secretary for Occupational Safety and Health

DLGS60168 Intergovernmental Officer to the Assistant Secretary for Congressional and Intergovernmental Affairs

DLGS60169 Deputy Director, Executive Secretariat to the Executive Secretary

DLGS60170 Special Assistant to the Secretary of Labor

DLGS60171 Special Assistant to the Secretary of Labor

DLGS60173 Chief of Staff to the Assistant Secretary for Disability Employment Policy

DLGS60175 Associate Assistant Secretary for Policy to the Assistant Secretary for Policy

DLGS60177 Speech Writer to the Assistant Secretary for Public Affairs

DLGS60180 Senior Legislative Officer to the Assistant Secretary for Congressional and Intergovernmental Affairs

DLGS60182 Special Assistant to the Deputy Secretary of Labor

DLGS60185 Deputy Director to the Director, Office of Faith Based and Community Initiatives

DLGS60187 Special Assistant to the Assistant Secretary for Employment and Training

DLGS60190 Research Assistant to the Assistant Secretary for Congressional and Intergovernmental Affairs

DLGS60191 Chief Economist to the Assistant Secretary for Policy

DLGS60192 Chief of Staff to the Assistant Secretary for Employee Benefits Security Administration

DLGS60194 Director of Scheduling and Advance to the Secretary of Labor

DLGS60197 Legislative Officer to the Assistant Secretary for Congressional and Intergovernmental Affairs

DLGS60198 Special Assistant to the Assistant Secretary for Administration and Management

DLGS60199 Staff Assistant to the Assistant Secretary for Public Affairs

DLGS60203 Special Assistant to the Assistant Secretary for Veterans Employment and Training

DLGS60204 Special Assistant to the Assistant Secretary for Veterans Employment and Training

DLGS60205 Special Assistant to the Secretary of Labor

DLGS60208 Senior Legislative Officer to the Assistant Secretary for Congressional and Intergovernmental Affairs

DLGS60209 Special Assistant to the Assistant Secretary for Veterans Employment and Training

DLGS60210 Special Assistant to the Director, Office of Faith Based and Community Initiatives

DLGS60211 Special Assistant to the Executive Secretary

DLGS60214 Staff Assistant to the Secretary of Labor

DLGS60215 Special Assistant to the Assistant Secretary for Occupational Safety and Health

DLGS60217 Senior Legislative Officer to the Assistant Secretary for Congressional and Intergovernmental Affairs

DLGS60218 Special Assistant to the Assistant Secretary for Public Affairs

DLGS60222 Special Assistant to the Assistant Secretary for Disability Employment Policy

DLGS60225 Staff Assistant to the Assistant Secretary for Public Affairs

DLGS60229 Special Assistant to the Assistant Secretary for Disability Employment Policy

DLGS60232 Special Assistant to the Assistant Secretary for Administration and Management

DLGS60234 Chief of Staff to the Assistant Secretary for Policy

DLGS60235 Senior Intergovernmental Officer to the Assistant Secretary for Congressional and Intergovernmental Affairs

DLGS60237 Special Assistant to the Secretary of Labor

DLGS60239 Associate Deputy Secretary to the Deputy Secretary of Labor

DLGS60240 Intergovernmental Officer to the Assistant Secretary for Congressional and Intergovernmental Affairs

DLGS60243 Staff Assistant to the Assistant Secretary for Policy

DLGS60245 Special Assistant to the Secretary of Labor

DLGS60246 Staff Assistant to the Secretary of Labor

DLGS60248 Special Assistant to the Director of Public Liaison

DLGS60252 Counsel to the Deputy Secretary of Labor

DLGS60255 Staff Assistant to the Secretary of Labor

DLGS60256 Special Assistant to the Deputy Assistant Secretary for Labor-Management Programs

DLGS60260 Special Assistant to the Director of Public Liaison

DLGS60261 Special Assistant to the Assistant Secretary for Mine Safety and Health

DLGS60262 Special Assistant to the Deputy Assistant Secretary for Federal Contract Compliance

DLGS60263 Special Assistant to the Assistant Secretary for Employment Standards

DLGS60264 Special Assistant to the Wage and Hour Administrator

DLGS60266 Chief of Staff to the Deputy Under Secretary for International Affairs

DLGS60267 Special Assistant to the Assistant Secretary for Public Affairs

DLGS60269 Special Assistant to the Secretary of Labor

DLGS60270 Special Assistant to the Assistant Secretary for Employment and Training

DLGS60273 Special Assistant to the Assistant Secretary for Administration and Management

Section 213.3316 Department of Health and Human Services

DHGS00034 Executive Assistant to the Principal Deputy Assistant Secretary for Health

DHGS00268 Special Assistant to the Executive Secretary to the Executive Secretary to the Department

DHGS00492 Deputy White House Liaison for Boards and Committees to the Chief of Staff

DHGS00632 Special Outreach Coordinator to the Executive Secretary to the Department

DHGS60002 Special Assistant to the Chief of Staff

DHGS60014 Director, Correspondence Control Center to the Executive Secretary to the Department

DHGS60017 Director of Scheduling to the Chief of Staff

DHGS60055 Senior Advisor to the Assistant Secretary for Legislation to the Assistant Secretary for Legislation

DHGS60187 Special Assistant to the Deputy Assistant Secretary for Legislative (Congressional Liaison)

DHGS60204 Special Assistant to the Executive Assistant to the White House Liaison for Political Personnel Boards and Commission

DHGS60236 Secretary's Regional Representative for Intergovernmental Affairs to the Director of Intergovernmental Affairs

DHGS60237 Regional Director, New York, New York, Region II to the Director of Intergovernmental Affairs

DHGS60240 Regional Director, Dallas, Texas, Region VI to the Director of Intergovernmental Affairs

DHGS60243 Regional Representative, Atlanta, Georgia, Region IV to the Director of Intergovernmental Affairs

DHGS60247 Secretary's Regional Representative, Philadelphia, Pennsylvania to the Director of Intergovernmental Affairs

DHGS60252 Regional Director, Denver, Colorado, Region VIII to the Director of Intergovernmental Affairs

DHGS60255 Regional Director, Chicago, Illinois-Region V to the Director of Intergovernmental Affairs

DHGS60269 Special Assistant to the Director, Center for Faith-Based and Community Initiatives

DHGS60293 Special Assistant to the Commissioner Administration for Children Youth and Families

DHGS60315 Special Assistant to the Director of Intergovernmental Affairs

DHGS60331 Special Assistant to the Director, Executive Operations

DHGS60332 Associate Commissioner Children's Bureau to the Commissioner Administration for Children Youth and Families

DHGS60336 Special Assistant to the Deputy Assistant Secretary for Legislative (Congressional Liaison)

DHGS60347 Congressional Liaison Specialist to the Deputy Assistant Secretary for Legislative (Congressional Liaison)

DHGS60359 Congressional Liaison Specialist to the Deputy Assistant Secretary for Legislative (Congressional Liaison)

DHGS60361 Congressional Liaison Specialist to the Deputy Assistant Secretary for Legislative (Congressional Liaison)

DHGS60374 Confidential Assistant to the Executive Secretary to the Department

DHGS60383 Special Assistant to the Administrator, Health Resources and Services Administration

DHGS60399 Special Assistant to the Commissioner Administration for Children Youth and Families

DHGS60412 Regional Director, San Francisco, California, Region IX to the Director of Intergovernmental Affairs

DHGS60417 Regional Director, Kansas City, Missouri, Region VII the Director of Intergovernmental Affairs

DHGS60418 Confidential Assistant to the Deputy Assistant Secretary for Planning and Evaluation (Science and Data Policy)

DHGS60427 Executive Director, President's Committee on Mental Retardation to the Assistant Secretary Administrator for Children and Families

DHGS60436 Associate Commissioner to the Assistant Secretary Administrator for Children and Families

DHGS60485 Director of Communications to the Assistant Secretary, Health

DHGS60497 Special Assistant for International and Immigration Issues to the Assistant Secretary Administrator for Children and Families

DHGS60525 Confidential Assistant to the Director, Executive Operations

DHGS60541 Special Assistant to the Deputy Director Office of Child Support Enforcement

DHGS60553 Director of Communications to the Deputy Assistant Secretary for Public Affairs (Policy and Communications)

DHGS60558 Confidential Assistant to the Administrator, Health Resources and Services Administration

DHGS60570 Confidential Assistant (Advance) to the Director of Scheduling

DHGS60628 Special Assistant to the Administrator, Substance Abuse and Mental Health Service

DHGS60636 Senior Advisor to the Director, Indian Health Service

DHGS60638 Special Assistant to the Chief of Staff

DHGS60659 Counselor to the Deputy Secretary, Department of Health and Human Services

DHGS60661 Special Assistant to the Deputy Secretary

DHGS60664 Deputy Director of Intergovernmental Affairs (Operations) to the Director of Intergovernmental Affairs

DHGS60665 Deputy Director for Policy to the Director of Intergovernmental Affairs

DHGS60667 Confidential Assistant to the Executive Secretary to the Department

DHGS60672 Deputy Director of Scheduling to the Director of Scheduling

DHGS60675 Special Assistant for Aging to the Assistant Secretary for Aging (Commissioner for Aging)

DHGS60682 Executive Director, President's Advisory Commission and White House Initiative on Asian Americans and Pacific Islanders to the Assistant Secretary, Health

Section 213.3317 Department of Education

DBGS00081 Special Assistant to the Director, Faith-Based and Community Initiatives Center

DBGS00094 Special Assistant to the Deputy Assistant Secretary for Regional Services

DBGS00184 Confidential Assistant to the Special Assistant

DBGS00192 Special Assistant to the Chief of Staff

DBGS00198 Special Assistant to the Assistant Secretary for Special Education and Rehabilitative Services

DBGS00200 Special Assistant to the Senior Advisor to the Secretary

DBGS00202 Deputy Assistant Secretary for Policy to the Assistant Secretary for Elementary and Secondary Education

DBGS00204 Special Assistant to the Chief Financial Officer

DBGS00205 Special Assistant to the Assistant Secretary for Management

DBGS00208 Special Assistant to the Director, White House Initiative on Hispanic Education

DBGS00209 Special Assistant to the Assistant Secretary for Legislation and Congressional Affairs

DBGS00211 Special Assistant to the Associate Deputy Under Secretary

DBGS00212 Confidential Assistant to the Special Assistant

DBGS00213 Special Assistant to the Deputy Assistant Secretary for Regional Services

DBGS00216 Deputy Secretary's Regional Representative, Region X to the Assistant Secretary for Intergovernmental and Interagency Affairs

DBGS00219 Confidential Assistant to the Special Assistant

DBGS00223 Special Assistant to the Deputy Under Secretary for Innovation and Improvement

DBGS00224 Special Assistant to the Deputy Under Secretary for Innovation and Improvement

DBGS00225 Confidential Assistant to the Deputy Under Secretary for Innovation and Improvement

DBGS00230 Confidential Assistant to the Deputy Under Secretary for Innovation and Improvement

DBGS00231 Confidential Assistant to the Assistant Secretary for Vocational and Adult Education

DBGS00232 Confidential Assistant to the Director, Faith-Based and Community Initiatives Center

DBGS00235 Associate Deputy Under Secretary for Improvement and Reform to the Deputy Under Secretary for Innovation and Improvement

DBGS00236 Secretary's Regional Representative to the Assistant Secretary for Intergovernmental and Interagency Affairs

DBGS00237 Executive Assistant to the General Counsel

DBGS00239 Confidential Assistant to the Special Assistant

DBGS00240 Special Assistant to the Chief of Staff

DBGS00241 Deputy Secretary's Regional Representative-Region III to the Deputy Assistant Secretary for Regional Services

DBGS00242 Special Assistant to the Under Secretary

DBGS00244 Special Assistant to the Special Assistant

DBGS00245 Confidential Assistant to the Special Assistant

DBGS00246 Confidential Assistant to the Deputy Assistant Secretary

DBGS00247 Special Assistant to the Special Assistant

DBGS00248 Confidential Assistant to the Special Assistant

DBGS00249 Special Assistant to the Assistant Secretary for Postsecondary Education

DBGS00250 Confidential Assistant to the Director, White House Liaison

DBGS00251 Special Assistant to the Special Assistant

DBGS00252 Special Assistant to the Associate Deputy Under Secretary

DBGS00255 Special Assistant to the Chief of Staff

DBGS00256 Special Assistant to the Assistant Secretary for Civil Rights

DBGS00257 Confidential Assistant to the Assistant Secretary for Postsecondary Education

DBGS00259 Confidential Assistant to the Chief of Staff

DBGS00260 Deputy Secretary's Regional Representative to the Deputy Assistant Secretary for Regional Services

DBGS00261 Deputy Secretary's Regional Representative—Region VII to the Deputy Assistant Secretary for Regional Services

DBGS00262 Confidential Assistant to the Chief of Staff

DBGS00263 Deputy Director of Communications, Office of Public Affairs to the Director Office of Public Affairs (Communications Director)

DBGS00265 Special Assistant to the Assistant Secretary for Management/Chief Information Officer

DBGS00267 Confidential Assistant to the Special Assistant (Executive Assistant)

DBGS00268 Special Assistant (White House Liaison) to the Chief of Staff

DBGS00269 Special Assistant to the Deputy Assistant Secretary

DBGS00270 Confidential Assistant to the Deputy Chief of Staff for Operations

DBGS00271 Special Assistant to the Chief of Staff

DBGS00272 Special Assistant to the Chief of Staff to the Under Secretary

DBGS00277 Special Assistant to the Special Assistant

DBGS00278 Special Assistant to the Assistant Secretary for Legislation and Congressional Affairs

DBGS00281 Confidential Assistant to the Chief of Staff to the Under Secretary

DBGS06227 Special Assistant to the Chief of Staff

DBGS06229 Confidential Assistant to the Assistant Secretary for Elementary and Secondary Education

DBGS60002 Deputy Assistant Secretary to the Assistant Secretary for Legislation and Congressional Affairs

DBGS60003 Confidential Assistant to the Chief of Staff

DBGS60006 Confidential Assistant to the Chief of Staff to the Under Secretary

DBGS60011 Steward to the Chief of Staff

DBGS60015 Special Assistant to the Deputy Assistant Secretary for Regional Services

DBGS60016 Confidential Assistant to the Chief of Staff

DBGS60021 Confidential Assistant to the Assistant Secretary for Legislation and Congressional Affairs

DBGS60025 Executive Assistant to the Deputy Secretary of Education

DBGS60028 Deputy Secretary's Regional Representative, Region VI to the Secretary's Regional Representative

DBGS60032 Confidential Assistant to the Director, Office of Scheduling and Briefing

DBGS60033 Deputy Assistant Secretary for Regional Services to the Assistant Secretary for Intergovernmental and Interagency Affairs

DBGS60037 Deputy Assistant Secretary for Intergovernmental, Constituent Relations and Corporate Liaison to the Assistant Secretary for Intergovernmental and Interagency Affairs

DBGS60038 Secretary's Regional Representative, Region I, Boston, Massachusetts to the Deputy Assistant Secretary for Regional Services

DBGS60048 Special Assistant to the General Counsel

DBGS60052 Deputy Director to the Director

DBGS60055 Secretary's Regional Representative, Region VIII to the Deputy Assistant Secretary for Regional Services

DBGS60059 Special Assistant to the Chief of Staff

DBGS60060 Press Secretary to the Director Office of Public Affairs (Communications Director)

DBGS60063 Confidential Assistant to the Counselor to the Secretary

DBGS60064 Secretary's Regional Representative, Region II to the Deputy Assistant Secretary for Regional Services

DBGS60068 Special Assistant to the Chief of Staff to the Deputy Secretary

DBGS60069 Special Assistant to the Chief of Staff to the Under Secretary

DBGS60073 Special Assistant to the Commissioner Rehabilitation Services Administration

DBGS60075 Special Assistant to the Assistant Secretary for Elementary and Secondary Education

DBGS60077 Special Assistant to the Director, Office of Scheduling and Briefing

DBGS60078 Special Assistant to the Deputy Assistant Secretary for Regional Services

DBGS60079 Confidential Assistant to the Director, Office of Scheduling and Briefing

DBGS60080 Confidential Assistant to the Chief of Staff to the Deputy Secretary

DBGS60083 Special Assistant to the Chief of Staff

DBGS60084 Confidential Assistant to the Director Office of Public Affairs (Communications Director)

DBGS60085 Secretary's Regional Representative, Region IX to the Deputy Assistant Secretary for Regional Services

DBGS60088 Special Assistant to the Deputy Secretary of Education

DBGS60093 Special Assistant to the Assistant Secretary for Elementary and Secondary Education

DBGS60096 Special Assistant to the Deputy Assistant Secretary for Regional Services

DBGS60103 Special Assistant to the Deputy Assistant Secretary

DBGS60113 Special Assistant to the Director Office of Public Affairs (Communications Director)

DBGS60115 Secretary's Regional Representative, Region X to the Deputy Assistant Secretary for Regional Services

DBGS60119 Special Assistant to the Chief of Staff

DBGS60120 Director, Office of Scheduling and Briefing to the Chief of Staff

DBGS60122 Secretary's Regional Representative, Region VII to the Deputy Assistant Secretary for Regional Services

DBGS60124 Special Assistant to the Assistant Secretary for Postsecondary Education

DBGS60125 Special Assistant (Executive Assistant) to the Assistant Secretary for Intergovernmental and Interagency Affairs

DBGS60126 Deputy Secretary's Regional Representative, Region I to the Secretary's Regional Representative, Region I, Boston, MA

DBGS60127 Special Assistant to the Assistant Secretary for Vocational and Adult Education

DBGS60129 Special Assistant to the Assistant Secretary for Special Education and Rehabilitative Services

DBGS60130 Special Assistant to the Director

DBGS60137 Special Assistant to the Chief of Staff

DBGS60139 Deputy Chief of Staff for Strategy/Policy to the Chief of Staff

DBGS60140 Deputy Chief of Staff for Operations to the Chief of Staff

DBGS60142 Secretary's Regional Representative, Region IV to the Deputy Assistant Secretary for Regional Services

DBGS60143 Confidential Assistant to the Chief of Staff

DBGS60145 Confidential Assistant to the Deputy Director

DBGS60146 Confidential Assistant to the Chief of Staff

DBGS60150 Special Assistant to the Chief of Staff

DBGS60151 Special Assistant to the Chief of Staff

DBGS60154 Director, Faith-Based and Community Initiatives Center to the Chief of Staff

DBGS60155 Special Assistant to the Director, White House Initiative on Hispanic Education

DBGS60163 Confidential Assistant to the Chief of Staff to the Under Secretary

DBGS60164 Confidential Assistant to the Chief of Staff to the Under Secretary

DBGS60166 Executive Assistant to the Assistant Secretary for Postsecondary Education

DBGS60168 Special Assistant to the Director, Office of Educational Technology

DBGS60171 Special Assistant to the Assistant Secretary for Intergovernmental and Interagency Affairs

DBGS60173 Special Assistant to the Chief of Staff to the Deputy Secretary

DBGS60174 Special Assistant to the Chief Financial Officer

DBGS60175 Special Assistant to the Assistant Secretary for Vocational and Adult Education

DBGS60176 Confidential Assistant to the Deputy Assistant Secretary

DBGS60178 Special Assistant to the Chief of Staff to the Under Secretary

DBGS60181 Special Assistant to the Chief Financial Officer

DBGS60182 Confidential Assistant to the Director of the Institute of Education Sciences

DBGS60185 Special Assistant to the Director Office of Public Affairs (Communications Director)

DBGS60187 Special Assistant to the Deputy Chief of Staff for Operations

DBGS60189 Confidential Assistant to the Assistant Secretary for Civil Rights

DBGS60191 Special Assistant to the Assistant Secretary for Civil Rights

DBGS60193 Special Assistant to the Secretary

DBGS60194 Special Assistant to the Director, White House Initiative on Hispanic Education

DBGS60196 Special Assistant to the Director, Office of Educational Technology

DBGS60197 Confidential Assistant to the Deputy Chief of Staff for Operations

DBGS60199 Special Assistant to the Assistant Secretary for Postsecondary Education

DBGS60206 Deputy Secretary's Regional Representative, Region IX to the Deputy Assistant Secretary for Regional Services

Section 213.3318 Environmental Protection Agency

EPGS00922 Associate Assistant Administrator to the Assistant Administrator for Research and Development

EPGS03300 Public Affairs Specialist to the Associate Assistant Administrator for Public Affairs

EPGS03400 Program Advisor to the Associate Administrator to the Associate Assistant Administrator for Public Affairs

EPGS03500 Senior Policy Advisor to the Deputy Assistant Administrator for Water

EPGS03604 Supervisory Program Analyst to the Associate Administrator for Congressional and Intergovernmental Relations

EPGS12701 Special Assistant to the Associate Administrator for Congressional and Intergovernmental Relations

EPGS30301 Assistant Associate Administrator/Press Secretary to the Associate Assistant Administrator for Public Affairs

EPGS60001 Special Assistant (Advance Person) to the Administrator

EPGS60005 Director of Information and Special Initiatives to the Associate Administrator for Communications, Education and Media Relations

EPGS60039 Special Assistant to the Associate Administrator for Communications, Education and Media Relations

EPGS60042 Director of Scheduling to the Deputy Associate Administrator for the Office of Public Affairs

EPGS60050 Program Assistant to the Assistant Administrator for Air and Radiation

EPGS60054 Special Assistant to the Associate Administrator for Communications, Education and Media Relations

EPGS60055 Special Assistant to the Associate Administrator for Congressional and Intergovernmental Relations

EPGS60060 Chief of Staff to the Assistant Administrator for Air and Radiation

EPGS60062 Public Liaison Specialist to the Associate Administrator for Communications, Education and Media Relations

EPGS60063 Special Assistant to the Deputy Administrator

EPGS60064 Associate Assistant Administrator to the Assistant Administrator for Prevention Pesticides and Toxic Substances

EPGS60065 Recycling Communications Advisor to the Deputy Director, Office of Solid Waste

EPGS60068 Associate Assistant Administrator to the Principal Deputy Assistant Administrator for Solid Waste and Emergency Response

EPGS60069 Special Assistant for Communications to the Assistant Administrator for Water

EPGS60071 Senior Advisor to the Assistant Administrator for International Activities

EPGS60072 Director, Office of Regional Operations to the Associate Administrator for Congressional and Intergovernmental Relations

EPGS60074 Policy Analyst to the Assistant Administrator for Air and Radiation

EPGS60075 Deputy Associate Administrator to the Associate Administrator for Congressional and Intergovernmental Relations

EPGS60076 Senior Counsel to the Associate Administrator for Congressional and Intergovernmental Relations

EPGS60077 Special Counsel to the General Counsel to the Associate General Counsel (Pesticides and Toxic Substances)

EPGS60078 Program Advisor (Advance Person) to the Administrator

EPGS60081 Director of Advance Staff to the Associate Administrator for Communications, Education and Media Relations

EPGS60082 Special Assistant to the Administrator

EPGS60083 Director, Long Term Communication Planning to the Associate Administrator for Communications, Education and Media Relations

EPGS60089 Senior Advisor to the Chief Financial Officer

Section 213.3323 Federal Communications Commission

FCGS03051 Deputy Director, Office of Media Relations to the Chief of Staff

FCGS60005 Special Assistant to the Director, Office of Legislative Affairs

FCGS60006 Deputy Director to the Director, Office of Legislative Affairs

Section 213.3323 Overseas Private Investment Corporation

PQGS00015 Program Specialist to the President

PQGS60018 Executive Assistant to the President

PQGS60019 Confidential Assistant to the President

PQGS60020 Executive Assistant to the Executive Vice President

PQGS60021 Confidential Assistant to the President

Section 213.3325 United States Tax Court

JCGS60040 Secretary Confidential Assistant to the Chief Judge

JCGS60041 Secretary (Confidential Assistant) to the Chief Judge

JCGS60042 Secretary (Confidential Assistant) to the Chief Judge

JCGS60043 Secretary (Confidential Assistant) to the Chief Judge

JCGS60044 Secretary (Confidential Assistant) to the Chief Judge

JCGS60045 Secretary (Confidential Assistant) to the Chief Judge

JCGS60046 Secretary (Confidential Assistant) to the Chief Judge

JCGS60047 Secretary (Confidential Assistant) to the Chief Judge

JCGS60048 Secretary (Confidential Assistant) to the Chief Judge

JCGS60049 Secretary (Confidential Assistant) to the Chief Judge

JCGS60050 Secretary (Confidential Assistant) to the Chief Judge

JCGS60051 Secretary (Confidential Assistant) to the Chief Judge

JCGS60052 Secretary (Confidential Assistant) to the Chief Judge

JCGS60053 Secretary (Confidential Assistant) to the Chief Judge

JCGS60054 Secretary (Confidential Assistant) to the Chief Judge

JCGS60056 Secretary (Confidential Assistant) to the Chief Judge

JCGS60059 Secretary (Confidential Assistant) to the Chief Judge

JCGS60060 Secretary (Confidential Assistant) to the Chief Judge

JCGS60061 Secretary (Confidential Assistant) to the Chief Judge

JCGS60062 Secretary (Confidential Assistant) to the Chief Judge

JCGS60063 Secretary (Confidential Assistant) to the Chief Judge

JCGS60064 Secretary (Confidential Assistant) to the Chief Judge

JCGS60065 Secretary (Confidential Assistant) to the Chief Judge

JCGS60066 Trial Clerk to the Chief Judge

JCGS60067 Trial Clerk to the Chief Judge

JCGS60068 Trial Clerk to the Chief Judge

JCGS60069 Trial Clerk to the Chief Judge

JCGS60070 Trial Clerk to the Chief Judge

JCGS60071 Trial Clerk to the Chief Judge

JCGS60073 Trial Clerk to the Chief Judge

JCGS60074 Trial Clerk to the Chief Judge

JCGS60077 Trial Clerk to the Chief Judge

JCGS60078 Trial Clerk to the Chief Judge

JCGS60082 Secretary (Confidential Assistant) to the Chief Judge

Section 213.3327 Department of Veterans Affairs

DVGS60005 Special Assistant to the Secretary of Veterans Affairs

DVGS60008 Special Assistant to the Dean, Veterans Affairs Learning University

DVGS60011 Special Assistant to the Deputy Assistant Secretary for Public Affairs

DVGS60015 Special Assistant to the Special Assistant (Supervisory Regional Veterans Service Liaison Officer)

DVGS60030 Special Assistant to the Special Assistant (Supervisory Regional Veterans Service Liaison Officer)

DVGS60034 Director, Congressional Affairs to the Assistant Secretary for Congressional and Legislative Affairs

DVGS60056 Special Assistant to the Special Assistant (Supervisory Regional Veterans Service Liaison Officer)

DVGS60073 Special Assistant (Deputy White House Liaison) to the Deputy Assistant Secretary for Public Affairs

DVGS60075 Special Assistant to the Special Assistant (Supervisory Regional Veterans Service Liaison Officer)

DVGS60081 Special Assistant to the Special Assistant (Supervisory Regional Veterans Service Liaison Officer)

DVGS60085 Special Assistant (Supervisory Regional Veterans Service Liaison Officer) to the Assistant Secretary for Public and Intergovernmental Affairs

DVGS60095 Special Assistant to the Assistant Secretary for Human Resources and Administration

DVGS60096 Special Assistant to the Special Assistant (Supervisory Regional Veterans Service Liaison Officer)

DVGS60099 Special Assistant to the Assistant Secretary for Public and Intergovernmental Affairs

DVGS60106 Special Assistant to the Assistant Secretary for Congressional and Legislative Affairs

Section 213.3328 Broadcasting Board of Governors

IBGS00009 Special Assistant to the Chairman, Broadcasting Board of Governors

IBGS00011 Special Assistant to the Chairman, Broadcasting Board of Governors

IBGS00012 Special Assistant to the Chairman, Broadcasting Board of Governors

IBGS60002 Special Assistant to the Executive Director

IBGS60003 Chief of Staff to the Director Office of Cuba Broadcasting

IBGS60005 Senior Projects Officer to the Director, Voice of America

Section 213.3330 Securities and Exchange Commission

SEOT60002 Confidential Assistant to a Commissioner

SEOT60004 Director of Legislative Affairs to the Director of Communications

SEOT60005 Confidential Assistant to a Commissioner

SEOT60006 Confidential Assistant to a Commissioner

SEOT60008 Secretary (Office Automation) to the Chief Accountant

SEOT60009 Secretary to the Gen Counsel of the Commission

SEOT60011 Staff Assistant to the Managing Executive for External Affairs

SEOT60014 Secretary to the Dir, Div of Market Regulation

SEOT60016 Secretary to the Dir, Div of Enforcement

SEOT60018 Secretary to the Dir—Div of Investment Management

SEOT60019 Secretary to the Director

SEOT60028 Confidential Assistant to the Chairman

SEOT60029 Secretary to the Director, Division of Market Regulation

SEOT60040 Senior Adviser to the Chairman to the Chairman

SEOT60041 Senior Advisor for Legislative Affairs to the Director of Communications

SEOT60051 Managing Executive for External Affairs to the Chairman

Section 213.3331 Department of Energy

DEGS00267 Special Assistant to the Assistant Secretary for Fossil Energy

DEGS00281 Senior Policy Advisor to the Chief Information Officer

DEGS00291 Deputy Chief of Staff to the Deputy Secretary to the Deputy Secretary of Energy

DEGS00293 Special Assistant to the Secretary, Department of Energy

DEGS00296 Special Assistant to the Director Office of Economic Impact and Diversity

DEGS00297 Policy Advisor to the Assistant Secretary for Fossil Energy

DEGS00298 Executive Assistant to the Assistant Secretary for Fossil Energy

DEGS00299 Senior Policy Advisor to the Assistant Secretary for International Affairs

DEGS00303 Special Assistant to the Assistant Secretary for Congressional and Intergovernmental Affairs

DEGS00305 Senior Policy Advisor to the Director, Office of Civilian Radioactive Waste Management

DEGS00306 Special Assistant to the Chief Financial Officer/Director, Office of Management, Budget and Evaluation

DEGS00310 Deputy Director, Office of Scheduling and Advance to the Director, Office of Scheduling and Advance

DEGS00311 Special Assistant to the Assistant Secretary (Conservation and Renewable Energy)

DEGS00313 Senior Policy Advisor to the Secretary, Department of Energy

DEGS00315 Deputy White House Liaison to the Deputy Chief of Staff/White House Liaison

DEGS00317 Senior Policy Advisor to the Secretary, Department of Energy

DEGS00318 Advisor, Legislative Affairs to the Assistant Secretary (Conservation and Renewable Energy)

DEGS00319 Senior Advisor to the Assistant Secretary (Conservation and Renewable Energy)

DEGS00321 Director, Office of Climate Change Programs to the Deputy Assistant Secretary for National Energy Policy

DEGS00322 Special Assistant for Intergovernmental Affairs to the Assistant Secretary of Energy (Environmental Management)

DEGS00323 Chief of Staff/Senior Policy Advisor for North American Affairs to the Assistant Secretary for International Affairs

DEGS00324 Special Assistant to the Director, Office of Scheduling and Advance

DEGS00326 Special Assistant to the Director, Public Affairs

DEGS00327 Special Assistant to the Director, Public Affairs

DEGS00328 Special Assistant to the Assistant Secretary for International Affairs

DEGS00329 Congressional Relations Specialist to the Deputy Administrator for Defense Programs, National Nuclear Security Administration

DEGS00330 Confidential Assistant to the Assistant Secretary for Environment, Safety and Health

DEGS00331 Advance and Trip Coordinator to the Director, Office of Scheduling and Advance

DEGS00332 Senior Advance Representative to the Director, Office of Scheduling and Advance

DEGS00333 Senior Advance Representative to the Director, Office of Scheduling and Advance

DEGS00334 Special Assistant to the Secretary to the Secretary, Department of Energy

DEGS60121 Special Assistant to the Director, Office of Scheduling and Advance

DEGS60134 Special Assistant to the Assistant Secretary for Fossil Energy

DEGS60140 Senior Advisor to the Director, Nuclear Energy

DEGS60151 Special Projects Officer to the Senior Policy Advisor

DEGS60173 Senior Policy Advisor to the Secretary, Department of Energy

DEGS60180 Deputy Director, Public Affairs to the Director, Public Affairs

DEGS60204 Special Assistant to the Assistant Secretary for Fossil Energy

DEGS60206 Chief of Staff to the Assistant Secretary (Conservation and Renewable Energy)

DEGS60212 Senior Advisor, Communications to the Assistant Secretary (Conservation and Renewable Energy)

DEGS60213 Legislative Counsel to the Assistant Secretary for Congressional and Intergovernmental Affairs

DEGS60217 Director, Press Office to the Director, Public Affairs

DEGS60220 Policy Advisor to the Secretary, Department of Energy

DEGS60221 Senior Policy Advisor to the Assistant Secretary of Energy (Environmental Management)

DEGS60222 Special Assistant to the Secretary, Department of Energy

DEGS60225 Senior Policy Advisor for Middle East Affairs to the Assistant Secretary for International Affairs

DEGS60226 Senior Advisor to the Secretary, Department of Energy

DEGS60228 Chief of Staff to the Director Office of Economic Impact and Diversity

DEGS60233 Special Assistant to the Assistant Secretary for International Affairs

DEGS60238 Deputy Director to the Director Office of Economic Impact and Diversity

DEGS60242 Policy Advisor to the Director Office of Worker and Community Transition

DEGS60244 Congressional Affairs Officer to the Assistant Secretary for Fossil Energy

DEGS60245 Senior Policy Advisor to the Assistant Secretary for Fossil Energy

DEGS60247 Advance and Trip Coordinator to the Director, Office of Scheduling and Advance

DEGS60248 Deputy Director of Advance for Strategic Initiatives to the Director, Office of Scheduling and Advance

DEGS60250 Confidential Assistant to the Assistant Secretary for Congressional and Intergovernmental Affairs

DEGS60251 Special Assistant to the Assistant Secretary for Congressional and Intergovernmental Affairs

DEGS60253 Director of Intergovernmental Affairs to the Assistant Secretary for Congressional and Intergovernmental Affairs

DEGS60254 Senior Policy Advisor to the Assistant Secretary of Energy (Environmental Management)

DEGS60256 Intergovernmental Liaison Officer to the Assistant Secretary for Congressional and Intergovernmental Affairs

DEGS60257 Deputy Assistant Secretary for National Security to the Assistant Secretary for Congressional and Intergovernmental Affairs

DEGS60259 Deputy Assistant Secretary for Energy Policy to the Assistant Secretary for Congressional and Intergovernmental Affairs

DEGS60261 Associate Deputy Assistant Secretary to the Assistant Secretary for Congressional and Intergovernmental Affairs

DEGS60262 Deputy Assistant Secretary for Budget and Appropriations to the Assistant Secretary for Congressional and Intergovernmental Affairs

DEGS60264 Senior Policy Advisor to the Chief Financial Officer/Director, Office of Management, Budget and Evaluation

DEGS60265 Senior Advisor, Congressional and Intergovernmental Affairs to the Director, Office of Science

DEGS60266 Senior Advisor to the Assistant Secretary of Energy (Environmental Management)

DEGS60268 Senior Manager of Public Affairs to the Assistant Secretary for Fossil Energy

DEGS60269 Confidential Advisor to the Director, Office of Science

DEGS60271 Executive Assistant to the Assistant Secretary for Fossil Energy

DEGS60272 Senior Policy advisor to the Secretary, Department of Energy

DEGS60276 Senior Policy Advisor to the Director, Office of Science

DEGS60277 Special Assistant to the Director, Office of Scheduling and Advance

DEGS60278 Special Assistant to the Director, Office of Economic Impact and Diversity

DEGS60283 Daily Scheduler to the Director, Office of Scheduling and Advance

DEGS60284 Special Assistant to the Assistant Secretary for International Affairs

DEGS60288 Daily Scheduler to the Director, Office of Scheduling and Advance

Section 213.3331 Federal Energy Regulatory Commission

DRGS60001 Regulatory Policy Analyst to the Director, Markets, Tariffs, and Rates

DRGS60003 Confidential Assistant to the Member-Federal Energy Regulatory Commission (Department of Energy)

Section 213.3332 Small Business Administration

SBGS00202 Speech Writer to the Associate Administrator for Communications/Public Liaison

SBGS60003 National Director for Native American Affairs to the Associate Deputy Administrator for Entrepreneurial Development

SBGS60004 Senior Advisor to the Inspector General

SBGS60010 Special Assistant to the Chief Operating Officer

SBGS60012 Director of Advisory Councils to the Associate Administrator for Communications/Public Liaison

SBGS60018 Special Assistant to the Administrator

SBGS60019 Special Assistant to the Deputy Administrator to the Deputy Administrator

SBGS60020 Senior Advisor to the Associate Deputy Administrator for Government Contracting and Business Development

SBGS60037 Special Assistant to the Administrator

SBGS60039 Assistant Administrator for Public Communications to the Associate Administrator for Communications/Public Liaison

SBGS60043 Special Assistant to the Assistant Administrator for Congressional and Legislative Affairs

SBGS60058 Special Assistant to the Chief of Staff to the Chief of Staff

SBGS60063 Special Assistant to the Associate Deputy Administrator for Capital Access

SBGS60075 Senior Advisor to the Associate Administrator for Investment

SBGS60076 Special Assistant to the Administrator

SBGS60084 Director of International Trade to the Administrator

SBGS60092 Special Assistant (Scheduling) to the Administrator

SBGS60098 Staff Assistant to the Associate Administrator for Communications/Public Liaison

SBGS60105 Special Assistant to the Administrator

SBGS60113 Director, Executive Secretariat to the Chief of Staff

SBGS60143 Policy Advisor to the Associate Administrator for Communications/Public Liaison

SBGS60145 Senior Advisor for International Trade to the Director, Intergovernmental Affairs

SBGS60146 Special Assistant to the Director of International Trade

SBGS60153 Deputy Director to the District Director

SBGS60157 Senior Advisor to the Administrator

SBGS60160 Senior Advisor to the District Director

SBGS60165 Special Assistant to the Associate Administrator for Field Operations

SBGS60168 Director of Intergovernmental Affairs to the Associate Administrator for Communications/Public Liaison

SBGS60169 Regional Administrator, Region I, Boston, MA to the Special Assistant to the Administrator

SBGS60170 Regional Administrator, Region VIII, Denver Colorado to the Assistant Inspector General for Inspections and Evaluation

SBGS60172 Regional Administrator (Kansas City) to the District Director

SBGS60173 Regional Administrator, Region VI, Dallas, Texas to the District Director

SBGS60175 Regional Administrator to the District Director

SBGS60176 Regional Administrator, Region II, New York, NY to the District Director Boston

SBGS60178 Regional Administrator, Region III, Philadelphia, Pennsylvania to the Associate Administrator for Field Operations

SBGS60183 Press Secretary to the Associate Administrator for Communications/Public Liaison

SBGS60188 Regional Administrator, Region IX, San Francisco to the Administrator

SBGS60189 Regional Administrator, Region 10, Seattle Washington to the Associate Administrator for Field Operations

SBGS60194 Assistant Scheduler to the Administrator

SBGS60206 National Director-Matchmaking to the Associate Deputy Administrator for Government Contracting and Business Development

SBGS60208 Special Assistant to the Associate Deputy Administrator for Entrepreneurial Development

SBGS60216 Senior Policy Advisor to the Administrator to the Administrator

SBGS60535 Senior Advisor to the Associate Deputy Administrator for Entrepreneurial Development

Section 213.3334 Federal Trade Commission

FTGS60001 Director, Office of Public Affairs to the Chairman

FTGS60002 Congressional Liaison Specialist to the Director, Office of Congressional Relations

FTGS60003 Secretary, Bureau of Competition to the Director Bureau of Competition

FTGS60004 Deputy Director to the Director, Office of Public Affairs

FTGS60005 Consumer Liaison Specialist to the Deputy Director Bureau of Consumer Protection

FTGS60023 Special Assistant to a Commissioner

FTGS60026 Confidential Assistant to a Commissioner

FTGS60027 Confidential Assistant to a Commissioner

Section 213.3337 General Services Administration

GSGS00084 Special Assistant to the Regional Administrator, Region VI Kansas City

GSGS00088 Special Assistant to the Regional Administrator, Northwest Artic Region to the Regional Administrator, Region 10, Auburn, Washington

GSGS00099 Senior Advisor to the Regional Administrator, Region 3, Philadelphia, Pennsylvania

GSGS00122 Congressional Relations Analyst to the Associate Administrator for Congressional and Intergovernmental Affairs

GSGS60044 Senior Policy Advisor to the Administrator

GSGS60058 Director of Administration to the Administrator

GSGS60069 Events Management Specialist to the Director of External Affairs

GSGS60078 Senior Advisor to the Regional Administrator National Capital Region

GSGS60082 Senior Advisor to the Regional Administrator, Regional 4, Atlanta, Georgia

GSGS60089 Confidential Assistant to the Administrator

GSGS60094 Congressional Relations Officer to the Associate Administrator for Congressional and Intergovernmental Affairs

GSGS60095 White House Liaison to the Chief of Staff

GSGS60100 Senior Advisor to the Associate Administrator for Congressional and Intergovernmental Affairs

GSGS60103 Confidential Assistant to the Chief of Staff

GSGS60113 Special Assistant to the Regional Administrator Region 1, Boston

GSGS60119 Senior Advisor to the Deputy Regional Administrator

GSGS60120 Congressional Relations Officer to the Associate Administrator for Congressional and Intergovernmental Affairs

GSGS60121 Congressional Relations Officer to the Associate Administrator for Congressional and Intergovernmental Affairs

GSGS60127 Associate Administrator for Small Business Utilization to the Administrator

GSGS60131 Director of External Affairs to the Deputy Associate Administrator for Communications

Section 213.3339 United States International Trade Commission

TCGS00007 Staff Assistant to a Commissioner

TCGS60006 Staff Assistant (Economics) to a Commissioner

TCGS60015 Executive Assistant to the Vice Chairman

TCGS60019 Senior Economist to a Commissioner

TCGS60022 Staff Assistant to the Vice Chairman

TCGS60030 Confidential Assistant to a Commissioner

TCGS60036 Executive Assistant to the Chairman

Section 213.3340 National Archives and Records Administration

NQGS60003 Archivist of the United States to the Archivist of the United States

Section 213.3341 National Labor Relations Board

NLGS06574 Executive Assistant to the Chairman to the Chairman

Section 213.3342 Export-Import Bank

EBGS60044 Special Assistant to the Special Assistant to Chairman and Coordinator of African Programs

EBGS60053 Administrative Assistant to the Member Board of Directors

EBGS60054 Special Assistant to the Vice President—Operations

Section 213.3343 Farm Credit Administration

FLOT00028 Director, Congressional and Legislative Affairs to the Chairman, Farm Credit Administration Board

FLOT00051 Chief Operating Officer to the Chairman, Farm Credit Administration Board

FLOT00053 Executive Assistant to Chairman of the Board to the Chairman, Farm Credit Administration Board

FLOT00080 Executive Assistant to Member to the Chairman, Farm Credit Administration Board

FLOT60012 Congressional and Public Affairs Specialist to the Director, Congressional and Legislative Affairs

FLOT60015 Public Affairs Specialist to the Director, Congressional and Legislative Affairs

Section 213.3346 Selective Service System

SSGS00001 Public Affairs Specialist to the Deputy Director

Section 213.3348 National Aeronautics and Space Administration

NNGS60018 Confidential Assistant to the Administrator

NNGS60019 Senior Policy Analyst to the Assistant Administrator for Public Affairs

NNGS60020 Writer-Editor to the Assistant Administrator for Public Affairs

NNGS60021 Industrial Relations Specialist to the Associate Administrator for External Relations

NNGS60022 Media Relations Specialist to the Assistant Administrator for Public Affairs

Section 213.3351 Federal Mine Safety and Health Review Commission

FRGS60017 Confidential Assistant to the Chairman

FRGS60024 Confidential Assistant to the Chairman

Section 213.3353 Merit Systems Protection Board

MPGS60009 Attorney Advisor to the Chairman

MPGS60010 Confidential Assistant to the Chairman

Section 213.3355 Social Security Administration

SZGS60001 Special Assistant to the Deputy Commissioner for Legislation and Congressional Affairs

SZGS60005 Special Assistant to the Deputy Commissioner for Disability and Income Security Programs

SZGS60006 Confidential Assistant to the Chief of Staff

SZGS60007 Special Assistant to a Commissioner

SZGS60008 Special Assistant to the Chief of Staff

SZGS60009 Executive Assistant to the Deputy Commissioner for Communications

Section 213.3356 Commission on Civil Rights

CCGS00017 Special Assistant to a Commissioner

CCGS60001 Special Assistant to the Vice-Chairman

CCGS60006 Special Assistant to the Vice-Chairman

CCGS60010 Special Assistant to the Staff Director

CCGS60011 Special Assistant to a Commissioner

CCGS60012 Special Assistant to a Commissioner

CCGS60013 Special Assistant to a Commissioner

CCGS60016 Special Assistant to a Commissioner

CCGS60031 Special Assistant to the Staff Director

CCGS60033 Special Assistant to a Commissioner

Section 213.3357 National Credit Union Administration

CUOT01191 Executive Assistant to the Vice Chair

CUOT01192 Executive Assistant to a Member

CUOT60009 Staff Assistant to the Chairman, National Credit Union Board

CUOT60018 Special Assistant for Legislative Affairs to the Chairman, National Credit Union Board

CUOT60026 Special Assistant for Public Affairs to the Chairman, National Credit Union Board

Section 213.3360 Consumer Product Safety Commission

PSGS60001 Special Assistant (Legal) to a Commissioner

PSGS60003 Special Assistant to a Commissioner

PSGS60006 Executive Assistant to the Chairman, Consumer Product Safety Commission

PSGS60007 Director, Office of Congressional Relations to the Chairman, Consumer Product Safety Commission

PSGS60012 Executive Assistant to the Chairman, Consumer Product Safety Commission

PSGS60014 General Counsel to the Chairman, Consumer Product Safety Commission

PSGS60050 Executive Assistant to a Commissioner

PSGS60061 Executive Assistant to a Commissioner

PSGS60062 Special Assistant (Legal) to a Commissioner

PSGS60063 Special Assistant (Legal) to a Commissioner

PSGS60064 Special Assistant (Legal) to a Commissioner

PSGS60066 Supervisory Public Affairs Specialist to the Executive Director

Section 213.3365 Chemical Safety and Hazard Investigation Board

FJGS60001 Special Assistant to the Chief Operating Officer

Section 213.3367 Federal Maritime Commission

MCGS60003 Counsel to the Commissioner to a Member

MCGS60041 Special Advisor to a Member

MCGS60042 Counsel to the Counsel to the Commissioner

Section 213.3376 Appalachian Regional Commission

APGS00003 Confidential Policy Advisor to the Federal Co-Chairman

Section 213.3377 Equal Employment Opportunity Commission

EEGS60004 Confidential Assistant to the Legal Counsel

EEGS60008 Confidential Assistant to the Chairman, Equal Employment Opportunity Commission

EEGS60032 Senior Advisor to the Member, Equal Employment Opportunity Commission

Section 213.3379 Commodity Futures Trading Commission

CTGS60001 Administrative Assistant to a Chief of Staff

CTGS60002 Administrative Assistant to a Chairperson

CTGS60003 Administrative Assistant to a Commissioner

CTGS60004 Administrative Assistant to a Commissioner

CTGS60006 Administrative Assistant to a Commissioner

CTGS60012 Special Assistant to a Commissioner

CTGS60014 Special Assistant to a Commissioner

Section 213.3382 National Endowment for the Arts

NAGS00004 Director of Development to the Senior Deputy Chairman

NAGS00025 General Counsel to the Chairman, National Endowment for the Arts

NAGS00074 Speechwriter to the Chairman, National Endowment for the Arts

NAGS60002 Special Assistant to the Chairman, National Endowment for the Arts

NAGS60077 Director of Communications to the Chairman, National Endowment for the Arts

NAGS60080 Deputy Director to the Congressional and White House Liaison Officer National Endowment for the Humanities

NHGS60060 General Counsel to the Chairman

NHGS60065 Special Assistant to the Chairman

NHGS60075 Director of Communications to the Deputy Chairman

Section 213.3384 Department of Housing and Urban Development

DUGS00020 Deputy Assistant Secretary for Policy Development to the Assistant Secretary for Policy Development and Research

DUGS00021 Staff Assistant to the Senior Advisor to the Deputy Secretary

DUGS00022 Staff Assistant to the Assistant Secretary for Public Affairs

DUGS00029 Staff Assistant to the Assistant Secretary for Community Planning and Development

DUGS00030 Special Assistant to the Assistant Secretary for Community Planning and Development

DUGS00031 Special Assistant to the Assistant Secretary for Housing, Federal Housing Commissioner

DUGS00035 Special Assistant to the Assistant Deputy Secretary for Field Policy and Management

DUGS00038 Staff Assistant to the Assistant Secretary for Congressional and Intergovernmental Relations

DUGS00040 Staff Assistant to the Assistant Secretary for Congressional and Intergovernmental Relations

DUGS00041 Advance Coordinator to the Assistant Secretary for Administration

DUGS00044 Special Assistant to the Assistant Secretary for Fair Housing and Equal Opportunity

DUGS00046 Staff Assistant to the Assistant Secretary for Congressional and Intergovernmental Relations

DUGS00170 Staff Assistant to the Assistant Secretary for Community Planning and Development

DUGS00249 Staff Assistant to the Assistant Deputy Secretary for Field Policy and Management

DUGS00370 Special Assistant to the Assistant Secretary for Public and Indian Housing

DUGS00445 Special Assistant to the Assistant Secretary for Community Planning and Development

DUGS00548 Deputy Assistant Secretary for Public Housing and Voucher Programs to the Assistant Secretary for Public and Indian Housing

DUGS60033 Staff Assistant to the Assistant Secretary for Housing, Federal Housing Commissioner

DUGS60036 Special Assistant to the Assistant Secretary for Housing, Federal Housing Commissioner

DUGS60039 Staff Assistant to the Assistant Secretary for Community Planning and Development

DUGS60060 Director of Executive Scheduling and Operations to the Assistant Secretary for Administration

DUGS60066 Special Assistant to the General Counsel

DUGS60068 Special Assistant to the Assistant Secretary for Public Affairs

DUGS60114 Staff Assistant to the Assistant Secretary for Housing, Federal Housing Commissioner

DUGS60137 Staff Assistant to the Assistant Secretary for Public Affairs

DUGS60151 Staff Assistant to the Assistant Secretary for Public Affairs

DUGS60172 Special Assistant to the Assistant Secretary for Public and Indian Housing

DUGS60184 Deputy Assistant Secretary to the Assistant Secretary for Administration

DUGS60187 Special Assistant to the Assistant Secretary for Public Affairs

DUGS60205 Deputy Assistant Secretary for Intergovernmental Affairs to the Assistant Secretary for Congressional and Intergovernmental Relations

DUGS60206 Intergovernmental Relations Assistant to the Assistant Secretary for Congressional and Intergovernmental Relations

DUGS60212 Staff Assistant to the Assistant Secretary for Community Planning and Development

DUGS60216 Deputy Assistant Secretary for Special Needs to the Assistant Deputy Secretary for Field Policy and Management

DUGS60224 Regional Director, Seattle, Washington to the Deputy Secretary, Housing and Urban Development

DUGS60238 Special Assistant to the Assistant Secretary for Administration

DUGS60249 Staff Assistant to the Assistant Secretary for Congressional and Intergovernmental Relations

DUGS60259 Administrator of Manufactured Housing Programs to the Assistant Secretary for Community Planning and Development

DUGS60266 Staff Assistant to the President, Government National Mortgage Association

DUGS60268 Staff Assistant to the Deputy Secretary, Housing and Urban Development

DUGS60272 Deputy Assistant Secretary for Economic Affairs to the Regional Director

DUGS60276 Staff Assistant to the Assistant Secretary for Housing, Federal Housing Commissioner

DUGS60281 Special Projects Officer to the Assistant Secretary for Housing, Federal Housing Commissioner

DUGS60286 Staff Assistant to the General Deputy Assistant Secretary for Policy Development Research

DUGS60361 Regional Director, Denver Colorado to the Assistant to the Secretary/White House Liaison

DUGS60379 Deputy Director for Scheduling to the Director of Executive Scheduling and Operations

DUGS60387 Advance Coordinator to the Director of Executive Scheduling and Operations

DUGS60417 Special Assistant to the Assistant Secretary for Administration

DUGS60419 Special Assistant (Speech Writer) to the Assistant Secretary for Community Planning and Development

DUGS60420 Deputy White House Liaison to the Assistant to the Secretary/White House Liaison

DUGS60431 Regional Director, Kansas City, Kansas to the Deputy Assistant Secretary for Congressional Relations

DUGS60434 Staff Assistant to the Assistant Deputy Secretary for Field Policy and Management

DUGS60452 Deputy Director for Advance to the Director of Executive Scheduling and Operations

DUGS60458 Intergovernmental Relations Assistant to the Assistant Secretary for Congressional and Intergovernmental Relations

DUGS60462 Special Assistant to the Assistant Secretary for Community Planning and Development

DUGS60464 Special Projects Coordinator to the Assistant Deputy Secretary for Field Policy and Management

DUGS60469 Special Assistant to the Assistant Secretary for Congressional and Intergovernmental Relations

DUGS60472 Deputy Assistant Secretary to the Assistant Secretary for Congressional and Intergovernmental Relations

DUGS60477 Special Assistant to the Assistant Secretary for Housing, Federal Housing Commissioner

DUGS60518 Special Assistant to the Deputy Secretary, Housing and Urban Development

DUGS60522 Deputy Assistant Secretary for Special Initiatives to the Secretary, Housing and Urban Development

DUGS60529 Special Assistant to the Assistant Secretary for Administration

DUGS60542 Special Assistant to the Assistant Secretary for Congressional and Intergovernmental Relations

DUGS60558 Special Assistant to the Deputy Assistant Secretary

DUGS60588 Staff Assistant to the Director of Executive Scheduling and Operations

DUGS60595 Legislative Specialist to the Assistant Secretary for Congressional and Intergovernmental Relations

DUGS60598 Special Counsel to the General Counsel

DUGS60601 Staff Assistant to the Assistant Secretary for Congressional and Intergovernmental Relations

DUGS60603 Staff Assistant to the General Deputy Assistant Secretary for Policy Development Research Section

Section 213.3388 Presidents Commission on White House Fellowships

WHGS00010 Staff Assistant (Office Automation) to the Director, President's Commission on White House Fellowships

WHGS00011 Education and Special Projects Director to the Director, President's Commission on White House Fellowships

WHGS60007 Associate Director to the Director, President's Commission on White House Fellowships

Section 213.3389 National Mediation Board

NMGS60056 Confidential Assistant to the Chairman

Section 213.3391 Office of Personnel Management

PMGS00025 Special Assistant to the Director, Office of Communications

PMGS00029 Special Assistant to the Director, Office of Communications

PMGS00030 Attorney Advisor to the General Counsel

PMGS00032 White House Liaison to the Chief of Staff

PMGS00033 Chief, Office of Senate Affairs to the Director, Office of Congressional Relations

PMGS00034 Confidential Assistant/Scheduler to the Chief of Staff

PMGS00035 Deputy Chief of Staff to the Chief of Staff

PMGS00036 Special Assistant to the Director, Office of Communications

PMGS00037 Chief, Office of House Affairs to the Director, Office of Congressional Relations

PMGS00038 Confidential Assistant to the Director, Office of Congressional Relations

PMGS60003 Special Assistant to the Director, Office of Communications

PMGS60004 Special Assistant to the Chief, Office of House Affairs

PMGS60005 Special Assistant to the Director, Office of Congressional Relations

PMGS60010 Special Initiatives Coordinator to the Director, Office of Communications

PMGS60011 Deputy General Counsel to the General Counsel

PMGS60013 Special Assistant to the Director, Office of Communications

PMGS60016 Special Assistant to the Deputy Director

PMGS60017 Special Counselor to the General Counsel

PMGS60018 Special Assistant to the Director, Office of Communications

PMGS60022 Deputy Director, Office of Communications to the Director, Office of Communications

PMGS60024 Policy Analyst to the Director

Section 213.3393 Pension Benefit Guaranty Corporation

BGGS60003 Assistant Executive Director for Legislative Affairs to the Executive Director

Section 213.3394 Department of Transportation

DTGS00114 Senior Policy Advisor to the Administrator

DTGS60003 Special Assistant to the Secretary and Deputy Director for Scheduling and Advance

DTGS60020 Deputy Assistant Secretary for Governmental Affairs to the Assistant Secretary for Governmental Affairs

DTGS60025 Special Assistant to the Under Secretary of Transportation for Security

DTGS60055 Associate Director for Governmental Affairs to the Assistant Secretary for Governmental Affairs

DTGS60060 Deputy Assistant Secretary for Governmental Affairs to the Assistant Secretary for Governmental Affairs

DTGS60069 Director, Office of Public and Consumer Affairs to the Administrator

DTGS60128 Special Assistant to the Administrator

DTGS60141 Special Assistant to the Chief of Staff

DTGS60151 Assistant to the Secretary for Policy to the Secretary

DTGS60156 Deputy Assistant Secretary to the Assistant Secretary for Aviation and International Affairs

DTGS60175 Counselor to the Assistant Secretary for Aviation and International Affairs

DTGS60198 Special Assistant to the Chief Counsel

DTGS60229 Special Assistant to the Administrator

DTGS60239 Director, Office of Congressional and Public Affairs to the Administrator

DTGS60243 Speechwriter to the Associate Director for Speechwriting

DTGS60254 White House Liaison to the Chief of Staff

DTGS60257 Deputy Director to the Assistant to the Secretary and Director of Public Affairs

DTGS60258 Associate Director for Governmental Affairs to the Assistant Secretary for Governmental Affairs

DTGS60276 Special Assistant to the Administrator

DTGS60277 Staff Assistant to the Administrator

Section 213.3394 Department of Transportation

DTGS60279 Associate Director for Speechwriting to the Assistant to the Secretary and Director of Public Affairs

DTGS60285 Special Assistant to the Administrator

DTGS60288 Associate Director for Governmental Affairs to the Assistant Secretary for Governmental Affairs

DTGS60294 Counselor to the Associate Deputy Secretary

DTGS60295 Executive Assistant to the Associate Deputy Secretary

DTGS60301 Associate Director for Governmental Affairs to the Assistant Secretary for Governmental Affairs

DTGS60324 Director for Scheduling and Advance to the Chief of Staff

DTGS60338 Special Assistant to the Associate Administrator for Policy

DTGS60339 Director of Public Affairs to the Administrator

DTGS60341 Associate Director for Governmental Affairs to the Assistant Secretary for Governmental Affairs

DTGS60351 Counselor to the Deputy Secretary

DTGS60357 Special Assistant for Scheduling and Advance to the Director for Scheduling and Advance

DTGS60358 Special Assistant to the Director for Scheduling and Advance

DTGS60365 Special Assistant to the Assistant Secretary for Transportation Policy

Section 213.3396 National Transportation Safety Board

TBGS60001 Counselor to the Chairman

TBGS60025 Special Assistant to the Vice Chairman

TBGS60032 Special Assistant to a Member

TBGS60034 Director, Office of Family Affairs to the Chairman

TBGS60102 Special Assistant to the Vice Chairman

TBGS60105 Confidential Assistant to the Vice Chairman

Section 213.3397 Federal Housing Finance Board

FBOT00003 Special Assistant for External Affairs to the Chairman

FBOT00005 Staff Assistant to the Chairman

FBOT60001 Special Assistant to the Chairman

FBOT60002 Counsel to the Chairman

FBOT60004 Chief Counsel to the Board Director

FBOT60006 Special Assistant to the Board Director

FBOT60007 Special Assistant to the Board Director

Authority: 5 U.S.C. 3301 and 3302; E.O. 10577, 3 CFR 1954-1958 Comp., p. 218

Office of Personnel Management.
Kay Coles James,
Director.

[FR Doc. 03-31406 Filed 12-19-03; 8:45 am]

BILLING CODE 6325-38-U